ENVIRONMENTAL PROTECTION AGENCY

40 CFR Part 52

[NV 126-NBK; FRL-9908-86-Region-9]

Approval and Promulgation of Implementation Plans; State of Nevada; Update to Materials Incorporated by Reference

AGENCY: Environmental Protection Agency (EPA).

ACTION: Final rule; notice of administrative change.

SUMMARY: The Environmental Protection Agency (EPA) is updating the materials submitted by the State of Nevada that are incorporated by reference (IBR) into the Nevada State Implementation Plan (SIP). In this action, EPA is also notifying the public of the correction of certain typographical errors within the IBR table. The regulations affected by this update have been previously submitted by the State of Nevada and approved by EPA. This update affects the SIP materials that are available for public inspection at the National Archives and Records Administration (NARA), the Air and Radiation Docket and Information Center located at EPA Headquarters in Washington, DC, and the EPA Regional Office.

DATES: This rule is effective on June 19, 2014.

ADDRESSES: SIP materials which are incorporated by reference into 40 CFR part 52 are available for inspection at the following locations:

• U.S. Environmental Protection Agency, Region IX, Air Division (AIR-4), 75 Hawthorne Street, San Francisco, CA 94105-3901;

• Air and Radiation Docket and Information Center, EPA Headquarters Library, Infoterra Room (Room Number 3334), EPA West Building, 1301 Constitution Ave. NW., Washington, DC 20460; and

• National Archives and Records Administration (NARA).

If you wish to obtain materials from a docket in the EPA Headquarters Library, please call the Office of Air and Radiation (OAR) Docket/Telephone number: 202-566-1742. For information on the availability of this material at NARA, call 202-741-6030, or go to: http://www.archives.gov/federal-register/cfr/ibr-locations.html.

FOR FURTHER INFORMATION CONTACT: Robert A. Marinaro, EPA Region IX, (415) 972-3019, marinaro.robert@epa.gov.

SUPPLEMENTARY INFORMATION:

I. Background

The SIP is a living document which the State revises as necessary to address its unique air pollution problems. Therefore, EPA from time to time must take action on SIP revisions containing new and/or revised regulations to make them part of the SIP. On May 22, 1997 (62 FR 27968), EPA revised the procedures for incorporating by reference federally-approved SIPs, as a result of consultations between EPA and the Office of the Federal Register (OFR). The description of the revised SIP document, IBR procedures, and “Identification of plan” format are discussed in further detail in the May 22, 1997 Federal Register document. On March 13, 2012 (77 FR 14862), EPA published a document in the Federal Register beginning the new IBR procedures for the State of Nevada. On March 26, 2012 (77 FR 17334), August 23, 2012 (77 FR 50936), September 27, 2012 (77 FR 59321), October 5, 2012 (77 FR 60915), and October 18, 2012 (77 FR 64039), EPA amended the tables listing EPA-approved regulations and statutes for the State of Nevada in 40 CFR 52.1470(c) to account for submitted regulations and statutory provisions included in those individual SIP revision actions.

In this document, EPA is publishing an updated set of tables listing the regulatory (i.e., IBR) materials in the Nevada SIP taking into account the additions, deletions, and revisions to those materials as set forth in the above listed SIP actions. In addition, EPA has found certain errors in certain entries listed in 40 CFR 52.1470(c), as amended by the SIP actions listed above, and is correcting them in this document. These include:

• The erroneous listing of 9/24/04 as the State effective date for the version of NAC 445B.001 (“Definitions”) approved by EPA at 73 FR 19144 (April 9, 2008)(the correct date is 1/1/07) and the erroneous listing of 12/4/76 as the State effective date for the version of NAC 445B.002 (“Act” defined) approved by EPA at 71 FR 15040 (3/27/06)(the correct date is 8/28/79);

• the inadvertent omissions of Clark County section 18, subsections 18.6 through 18.12, approved at 46 FR 43141 (August 27, 1981), and Clark County section 52, subsection 52.10, approved at 46 FR 21758 (April 14, 1981);

• a typographical error regarding the EPA approval date for a number of Washoe County regulations that should have been shown as approved at 37 FR 15080 (July 27, 1972) instead of 38 FR 12702 (May 14, 1973);

• the inadvertent listing of certain Washoe County regulations, sections 030.3105 (“Hazardous materials processes”), 030.3107 (related to permit transfer fees), and 030.3108 (related to permit replacement cost), which were deleted without replacement from the SIP at 74 FR 57051 (November 3, 2009);

• the erroneous identification of 5/18/10 and 3/6/12 as the local effective dates for amended Clark County sections 0 and 12, respectively, in the final rule taking action on those amended rules (77 FR 64039, October 18, 2012) (the correct date for both is 3/20/12);

• the inadvertent omission of the submittal date (8/30/12) for Washoe County regulations 030.235 and 030.970A (i.e., 8/30/12)(see 77 FR 60915, October 5, 2012); and

• the inadvertent listing of an entry for EPA's approval of Washoe County regulation 030.970 (subsection A only) as “030.970A” (see 77 FR 60915, October 5, 2012).

II. EPA Action

In this action, EPA is doing the following:

A. Announcing an update to the IBR material as of December 31, 2013;

B. Correcting certain listings in paragraph 52.1470(c) as described above; and

C. Revising the entries in paragraphs 52.1470(b) and (c) to reflect the update and corrections.

EPA has determined that today's rule falls under the “good cause” exemption in section 553(b)(3)(B) of the Administrative Procedure Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Statutory and Executive Order Reviews

A. General Requirements

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not an significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental affects with practical, appropriate, and legally permissible methods under Executive Order 12898 (59 FR 7929, February 16, 1994).

In addition, this rule does not have tribal implications as specified by Executive Order 13175 (65 FR 67249, November 9, 2000), because the SIP is not approved to apply in Indian country located in the State, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. This action is not a “major rule” as defined by 5 U.S.C. 804(2).

C. Petitions for Judicial Review

EPA has also determined that the provisions of section 307(b)(1) of the CAA pertaining to petitions for judicial review are not applicable to this action. Prior EPA rulemaking actions for each individual component of the Nevada SIP compilations had previously afforded interested parties the opportunity to file a petition for judicial review in the United States Court of Appeals for the appropriate circuit within 60 days of such rulemaking action. Thus, EPA sees no need in this action to reopen the 60-day period for filing such petitions for judicial review for this “Identification of plan” reorganization update action for the State of Nevada.

List of Subjects in 40 CFR Part 52

Environmental protection, Air pollution control, Carbon monoxide, Incorporation by reference, Intergovernmental relations, Nitrogen dioxide, Ozone, Particulate matter, Reporting and recordkeeping requirements, Sulfur dioxide, Volatile organic compounds.

Dated: January 17, 2014.
Jared Blumenfeld,
Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart DD—State of Nevada

2. Section 52.1470 is amended by revising paragraphs (b) and (c) to read as follows:

§ 52.1470 Identification of plan.

* * * * *

(b) Incorporation by reference. (1) Material listed in paragraphs (c) and (d) of this section with an EPA approval date prior to December 31, 2013, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after December 31, 2013, will be incorporated by reference in the next update to the SIP compilation.

(2) EPA Region IX certifies that the rules/regulations provided by EPA in the SIP compilation at the addresses in paragraph (b)(3) of this section are an exact duplicate of the officially promulgated State rules/regulations which have been approved as part of the State implementation plan as of December 31, 2013.

(3) Copies of the materials incorporated by reference may be inspected at the Region IX EPA Office at 75 Hawthorne Street, San Francisco, CA 94105; Air and Radiation Docket and Information Center, EPA Headquarters Library, Infoterra Room (Room Number 3334), EPA West Building, 1301 Constitution Ave. NW., Washington, DC; or the National Archives and Records Administration (NARA). For information on the availability of this material at NARA, call (202) 741-6030, or go to: http://www.archives.gov/federal-register/cfr/ibr-locations.html.

(c) EPA approved regulations.

Table 1—EPA-Approved Nevada Regulations and Statutes
State citation | Title/Subject | State effective date | EPA Approval date | Additional explanation
Nevada Revised Statutes, Title 43, Public Safety; Vehicles; Watercraft; Chapter 485, Motor Vehicles: Insurance and Financial Responsibility
485.050 | “Motor vehicle” defined | 10/1/03 | 77 FR 59321 (9/27/12) | Submitted on 5/21/12. Nev. Rev. Stat. Ann. § 485.050 (Michie 2010).
Nevada Administrative Code, Chapter 445B, Air Controls, Air Pollution; Nevada Administrative Code, Chapter 445, Air Controls, Air Pollution; Nevada Air Quality Regulations—Definitions
445B.001 | Definitions | 1/1/07 | 73 FR 19144 (4/9/08) | Most recently approved version was submitted on 6/26/07. See 40 CFR 52.1490(c)(66)(i)(A)(3)(ii).
445.431 | “Acid mist” defined | 8/28/79 | 49 FR 11626 (3/27/84) | Submitted on 10/26/82. See 40 CFR 52.1490(c)(25)(i)(A).
445B.002 | “Act” defined | 8/28/79 | 71 FR 15040 (3/27/06) | Most recently approved version was submitted on 1/12/06. See 40 CFR 52.1490(c)(56)(i)(A)(1)(i).
445B.003 | “Adjacent properties” defined | 12/13/93 | 77 FR 59321 (9/27/12) | Submitted on 1/24/11. November 2010 codification of NAC chapter 445B published by the Nevada Legislative Counsel Bureau.
445B.0035 | “Administrative revision to a Class I operating permit” defined | 09/24/04 | 77 FR 59321 (9/27/12) | Submitted on 1/24/11. November 2010 codification of NAC chapter 445B published by the Nevada Legislative Counsel Bureau.
445B.004 | “Administrator” defined | 10/14/82 | 71 FR 15040 (3/27/06) | Most recently approved version was submitted on 1/12/06. See 40 CFR 52.1490(c)(56)(i)(A)(2)(i).
445B.005 | “Affected facility” defined | 10/30/95 | 71 FR 15040 (3/27/06) | Most recently approved version was submitted on 1/12/06. See 40 CFR 52.1490(c)(56)(i)(A)(3)(i).
445B.006 | “Affected source” defined | 10/25/01 | 71 FR 15040 (3/27/06) | Most recently approved version was submitted on 1/12/06. See 40 CFR 52.1490(c)(56)(i)(A)(3)(v).
445B.007 | “Affected state” defined | 12/13/93 | 77 FR 59321 (9/27/12) | Submitted on 1/24/11. November 2010 codification of NAC chapter 445B published by the Nevada Legislative Counsel Bureau.
445B.009 | “Air-conditioning equipment” defined | 12/4/76 | 71 FR 15040 (3/27/06) | Most recently approved version was submitted on 1/12/06. See 40 CFR 52.1490(c)(56)(i)(A)(1)(i).
445.436 | “Air contaminant” defined | 8/28/79 | 49 FR 11626 (3/27/84) | Most recently approved version was submitted on 10/26/82. See 40 CFR 52.1490(c)(25)(i)(A).
445B.011 | “Air pollution” defined | 3/5/98 | 71 FR 15040 (3/27/06) | Most recently approved version was submitted on 1/12/06. See 40 CFR 52.1490(c)(56)(i)(A)(3)(ii).
445B.013 | “Allowable emissions” defined | 10/31/05 | 77 FR 59321 (9/27/12) | Submitted on 1/24/11. November 2010 codification of NAC chapter 445B published by the Nevada Legislative Counsel Bureau.
445B.014 | “Alteration” defined | 10/30/95 | 77 FR 59321 (9/27/12) | Submitted on 1/24/11. November 2010 codification of NAC chapter 445B published by the Nevada Legislative Counsel Bureau.
445B.015 | “Alternative method” defined | 10/30/95 | 71 FR 71486 (12/11/06) | Most recently approved version was submitted on 1/12/06. See 40 CFR 52.1490(c)(56)(i)(A)(7)(i).
445B.016 | “Alternative operating scenarios” defined | 10/30/95 | 77 FR 59321 (9/27/12) | Submitted on 1/24/11. November 2010 codification of NAC chapter 445B published by the Nevada Legislative Counsel Bureau.
445B.018 | “Ambient air” defined | 10/22/87 | 71 FR 15040 (3/27/06) | Most recently approved version was submitted on 1/12/06. See 40 CFR 52.1490(c)(56)(i)(A)(2)(ii).
445B.019 | “Applicable requirement” defined | 07/22/10 | 77 FR 59321 (9/27/12) | Submitted on 1/24/11. November 2010 codification of NAC chapter 445B published by the Nevada Legislative Counsel Bureau.
445B.022 | “Atmosphere” defined | 12/4/76 | 71 FR 15040 (3/27/06) | Most recently approved version was submitted on 1/12/06. See 40 CFR 52.1490(c)(56)(i)(A)(1)(i).
445B.029 | “Best available retrofit technology” defined | 4/23/09 | 77 FR 17334 (3/26/12) | Included in supplemental SIP revision submitted on September 20, 2011, and approved as part of approval of Nevada Regional Haze SIP.
445.445 | “Barite” defined | 1/25/79 | 49 FR 11626 (3/27/84) | Submitted on 10/26/82. See 40 CFR 52.1490(c)(25)(i)(A).
445.447 | “Barite grinding mill” defined | 1/25/79 | 49 FR 11626 (3/27/84) | Submitted on 10/26/82. See 40 CFR 52.1490(c)(25)(i)(A).
445B.030 | “British thermal units” defined | 10/22/87 | 71 FR 15040 (3/27/06) | Most recently approved version was submitted on 1/12/06. See 40 CFR 52.1490(c)(56)(i)(A)(2)(ii).
445B.035 | “Class I-B application” defined | 10/30/95 | 77 FR 59321 (9/27/12) | Submitted on 1/24/11. November 2010 codification of NAC chapter 445B published by the Nevada Legislative Counsel Bureau.
445B.036 | “Class I source” defined | 09/24/04 | 77 FR 59321 (9/27/12) | Submitted on 1/24/11. November 2010 codification of NAC chapter 445B published by the Nevada Legislative Counsel Bureau.
445B.037 | “Class II source” defined | 07/22/10 | 77 FR 59321 (9/27/12) | Submitted on 1/24/11. November 2010 codification of NAC chapter 445B published by the Nevada Legislative Counsel Bureau.
445B.038 | “Class III source” defined | 07/22/10 | 77 FR 59321 (9/27/12) | Submitted on 1/24/11. November 2010 codification of NAC chapter 445B published by the Nevada Legislative Counsel Bureau.
445.458 | “Calcine” defined | 12/4/76 | 49 FR 11626 (3/27/84) | Most recently approved version was submitted on 10/26/82. See 40 CFR 52.1490(c)(25)(i)(A).
445.464 | “Coal” defined | 12/4/76 | 49 FR 11626 (3/27/84) | Most recently approved version was submitted on 10/26/82. See 40 CFR 52.1490(c)(25)(i)(A).
445.470 | “Colemanite” defined | 11/17/78 | 49 FR 11626 (3/27/84) | Submitted on 10/26/82. See 40 CFR 52.1490(c)(25)(i)(A).
445.471 | “Colemanite processing plant” defined | 11/17/78 | 49 FR 11626 (3/27/84) | Submitted on 10/26/82. See 40 CFR 52.1490(c)(25)(i)(A).
445B.042 | “Combustible refuse” defined | 12/4/76 | 71 FR 15040 (3/27/06) | Most recently approved version was submitted on 1/12/06. See 40 CFR 52.1490(c)(56)(i)(A)(1)(i).
445B.0423 | “Commence” defined | 04/17/08 | 77 FR 59321 (9/27/12) | Submitted on 5/21/12. November 2010 codification of NAC chapter 445B published by the Nevada Legislative Counsel Bureau.
445B.0425 | “Commission” defined | 3/5/98 | 71 FR 15040 (3/27/06) | Submitted on 1/12/06. See 40 CFR 52.1490(c)(56)(i)(A)(3)(ii).
445B.044 | “Construction” defined | 10/31/05 | 77 FR 59321 (9/27/12) | Submitted on 1/24/11. November 2010 codification of NAC chapter 445B published by the Nevada Legislative Counsel Bureau.
445B.046 | “Contiguous property” defined | 12/04/76 | 77 FR 59321 (9/27/12) | Submitted on 1/24/11. November 2010 codification of NAC chapter 445B published by the Nevada Legislative Counsel Bureau.
445B.047 | “Continuous monitoring system” defined | 12/4/76 | 71 FR 15040 (3/27/06) | Most recently approved version was submitted on 1/12/06. See 40 CFR 52.1490(c)(56)(i)(A)(1)(i).
445.482 | “Converter” defined | 12/4/76 | 49 FR 11626 (3/27/84) | Most recently approved version was submitted on 10/26/82. See 40 CFR 52.1490(c)(25)(i)(A).
445B.051 | “Day” defined | 10/22/87 | 71 FR 15040 (3/27/06) | Most recently approved version was submitted on 1/12/06. See 40 CFR 52.1490(c)(56)(i)(A)(2)(ii).
445B.053 | “Director” defined | 12/4/76 | 71 FR 15040 (3/27/06) | Most recently approved version was submitted on 1/12/06. See 40 CFR 52.1490(c)(56)(i)(A)(1)(i).
445B.054 | “Dispersion technique” defined | 10/31/05 | 77 FR 59321 (9/27/12) | Submitted on 1/24/11. November 2010 codification of NAC chapter 445B published by the Nevada Legislative Counsel Bureau.
445.492 | “Dryer” defined | 12/4/76 | 49 FR 11626 (3/27/84) | Most recently approved version was submitted on 10/26/82. See 40 CFR 52.1490(c)(25)(i)(A).
Article 1.60 | Effective date | 12/27/77 | 46 FR 43141 (8/27/81) | Submitted on 12/29/78. See 40 CFR 52.1490(c)(14)(vii).
445B.055 | “Effective date of the program” defined | 12/13/93 | 71 FR 15040 (3/27/06) | Submitted on 1/12/06. See 40 CFR 52.1490(c)(56)(i)(A)(2)(v).
445B.056 | “Emergency” defined | 12/13/93 | 71 FR 15040 (3/27/06) | Submitted on 1/12/06. See 40 CFR 52.1490(c)(56)(i)(A)(2)(v).
445B.058 | “Emission” defined | 3/5/98 | 71 FR 15040 (3/27/06) | Most recently approved version was submitted on 1/12/06. See 40 CFR 52.1490(c)(56)(i)(A)(3)(ii).
445B.059 | “Emission unit” defined | 10/30/95 | 71 FR 15040 (3/27/06) | Most recently approved version was submitted on 1/12/06. See 40 CFR 52.1490(c)(56)(i)(A)(3)(i).
445B.060 | “Enforceable” defined | 10/14/82 | 71 FR 15040 (3/27/06) | Most recently approved version was submitted on 1/12/06. See 40 CFR 52.1490(c)(56)(i)(A)(2)(i).
445B.061 | “EPA” defined | 12/13/93 | 71 FR 15040 (3/27/06) | Submitted on 1/12/06. See 40 CFR 52.1490(c)(56)(i)(A)(2)(v).
445B.062 | “Equivalent method” defined | 10/30/95 | 71 FR 71486 (12/11/06) | Most recently approved version was submitted on 1/12/06. See 40 CFR 52.1490(c)(56)(i)(A)(7)(i).
445B.063 | “Excess emissions” defined | 10/31/05 | 73 FR 19144 (4/9/08) | Most recently approved version was submitted on 6/26/07. See 40 CFR 52.1490(c)(66)(i)(A)(3)(iii).
445B.064 | “Excessive concentration” defined | 10/31/05 | 77 FR 59321 (9/27/12) | Submitted on 1/24/11. November 2010 codification of NAC chapter 445B published by the Nevada Legislative Counsel Bureau.
445B.066 | “Existing stationary source” defined | 10/30/95 | 77 FR 59321 (9/27/12) | Submitted on 1/24/11. November 2010 codification of NAC chapter 445B published by the Nevada Legislative Counsel Bureau.
Article 1.73 | Existing source | 11/7/75 | 43 FR 36932 (8/21/78) | Submitted on 12/10/76. See 40 CFR 52.1490(c)(12).
445.512 | “Floating roof” defined | 12/4/76 | 49 FR 11626 (3/27/84) | Most recently approved version was submitted on 10/26/82. See 40 CFR 52.1490(c)(25)(i)(A).
445.513 | “Fossil fuel” defined | 12/4/76 | 49 FR 11626 (3/27/84) | Most recently approved version was submitted on 10/26/82. See 40 CFR 52.1490(c)(25)(i)(A).
445B.068 | “Facility” defined | 10/30/95 | 77 FR 59321 (9/27/12) | Submitted on 1/24/11. November 2010 codification of NAC chapter 445B published by the Nevada Legislative Counsel Bureau.
445B.069 | “Federally enforceable” defined | 04/17/08 | 77 FR 59321 (9/27/12) | Submitted on 1/24/11. November 2010 codification of NAC chapter 445B published by the Nevada Legislative Counsel Bureau.
445B.070 | “Federally enforceable emissions cap” defined | 12/13/93 | 77 FR 59321 (9/27/12) | Submitted on 1/24/11. November 2010 codification of NAC chapter 445B published by the Nevada Legislative Counsel Bureau.
445B.072 | “Fuel” defined | 10/22/87 | 71 FR 15040 (3/27/06) | Most recently approved version was submitted on 1/12/06. See 40 CFR 52.1490(c)(56)(i)(A)(2)(ii).
445B.073 | “Fuel-burning equipment” defined | 9/19/90 | 71 FR 15040 (3/27/06) | Most recently approved version was submitted on 1/12/06. See 40 CFR 52.1490(c)(56)(i)(A)(2)(iii).
445B.075 | “Fugitive dust” defined | 11/15/94 | 71 FR 15040 (3/27/06) | Most recently approved version was submitted on 1/12/06. See 40 CFR 52.1490(c)(56)(i)(A)(2)(vi).
445B.077 | “Fugitive emissions” defined | 10/30/95 | 71 FR 15040 (3/27/06) | Most recently approved version was submitted on 1/12/06. See 40 CFR 52.1490(c)(56)(i)(A)(3)(i).
445B.080 | “Garbage” defined | 12/4/76 | 71 FR 15040 (3/27/06) | Most recently approved version was submitted on 1/12/06. See 40 CFR 52.1490(c)(56)(i)(A)(1)(i).
445B.082 | “General permit” defined | 10/30/95 | 77 FR 59321 (9/27/12) | Submitted on 1/24/11. November 2010 codification of NAC chapter 445B published by the Nevada Legislative Counsel Bureau.
445B.083 | “Good engineering practice stack height” defined | 10/31/05 | 77 FR 59321 (9/27/12) | Submitted on 1/24/11. November 2010 codification of NAC chapter 445B published by the Nevada Legislative Counsel Bureau.
445B.084 | “Hazardous air pollutant” defined | 12/13/93 | 71 FR 71486 (12/11/06) | Submitted on 1/12/06. See 40 CFR 52.1490(c)(56)(i)(A)(6)(ii).
445B.086 | “Incinerator” defined | 12/4/76 | 71 FR 15040 (3/27/06) | Most recently approved version was submitted on 1/12/06. See 40 CFR 52.1490(c)(56)(i)(A)(1)(i).
445B.087 | “Increment” defined | 12/13/93 | 77 FR 59321 (9/27/12) | Submitted on 1/24/11. November 2010 codification of NAC chapter 445B published by the Nevada Legislative Counsel Bureau.
445.536 | “Lead” defined | 12/4/76 | 49 FR 11626 (3/27/84) | Most recently approved version was submitted on 10/26/82. See 40 CFR 52.1490(c)(25)(i)(A).
445B.091 | “Local air pollution control agency” defined | 12/4/76 | 71 FR 15040 (3/27/06) | Most recently approved version was submitted on 1/12/06. See 40 CFR 52.1490(c)(56)(i)(A)(1)(i).
“Article 1—Definitions: No. 2—LAER” | Lowest achievable emission rate | 8/28/79 | 46 FR 21758 (4/14/81) | Submitted on 7/24/79. See 40 CFR 52.1490(c)(16)(i).
445B.093 | “Major modification” defined | 09/24/04 | 77 FR 59321 (9/27/12) | Submitted on 1/24/11. November 2010 codification of NAC chapter 445B published by the Nevada Legislative Counsel Bureau.
445B.094 | “Major source” defined | 06/01/01 | 77 FR 59321 (9/27/12) | Submitted on 1/24/11. November 2010 codification of NAC chapter 445B published by the Nevada Legislative Counsel Bureau.
445B.0945 | “Major stationary source” defined | 9/24/04 | 77 FR 59321 (9/27/12) | Submitted on 1/24/11. November 2010 codification of NAC chapter 445B published by the Nevada Legislative Counsel Bureau.
445B.095 | “Malfunction” defined | 12/4/76 | 71 FR 15040 (3/27/06) | Originally adopted on 9/16/76. Most recently approved version was submitted on 1/12/06. See 40 CFR 52.1490(c)(56)(i)(A)(1)(i).
445B.097 | “Maximum allowable throughput” defined | 10/22/87 | 71 FR 15040 (3/27/06) | Most recently approved version was submitted on 1/12/06. See 40 CFR 52.1490(c)(56)(i)(A)(2)(ii).
445B.099 | “Modification” defined | 10/30/95 | 77 FR 59321 (9/27/12) | Submitted on 1/24/11. November 2010 codification of NAC chapter 445B published by the Nevada Legislative Counsel Bureau.
445B.103 | “Monitoring device” defined | 1/11/96 | 71 FR 15040 (3/27/06) | Most recently approved version was submitted on 1/12/06. See 40 CFR 52.1490(c)(56)(i)(A)(2)(vi).
445B.104 | “Motor vehicle” defined | 06/01/01 | 77 FR 59321 (9/27/12) | Submitted on 1/24/11. November 2010 codification of NAC chapter 445B published by the Nevada Legislative Counsel Bureau.
445B.106 | “Multiple chamber incinerator” defined | 12/4/76 | 71 FR 15040 (3/27/06) | Originally adopted on 9/16/76. Most recently approved version was submitted on 1/12/06. See 40 CFR 52.1490(c)(56)(i)(A)(1)(i).
445B.107 | “Nearby” defined | 10/31/05 | 77 FR 59321 (9/27/12) | Submitted on 1/24/11. November 2010 codification of NAC chapter 445B published by the Nevada Legislative Counsel Bureau.
Article 1.114 | New source | 11/7/75 | 43 FR 36932 (8/21/78) | Submitted on 12/10/76. See 40 CFR 52.1490(c)(12).
445B.108 | “New stationary source” defined | 10/30/95 | 77 FR 59321 (9/27/12) | Submitted on 1/24/11. November 2010 codification of NAC chapter 445B published by the Nevada Legislative Counsel Bureau.
445B.109 | “Nitrogen oxides” defined | 11/15/94 | 71 FR 15040 (3/27/06) | Most recently approved version was submitted on 1/12/06. See 40 CFR 52.1490(c)(56)(i)(A)(2)(vi).
445B.112 | “Nonattainment area” defined | 10/30/95 | 71 FR 15040 (3/27/06) | Most recently approved version was submitted on 1/12/06. See 40 CFR 52.1490(c)(56)(i)(A)(3)(i).
445B.113 | “Nonroad engine” defined | 6/1/01 | 71 FR 15040 (3/27/06) | Submitted on 1/12/06. See 40 CFR 52.1490(c)(56)(i)(A)(3)(iv).
445B.1135 | “Nonroad vehicle” defined | 6/1/01 | 71 FR 15040 (3/27/06) | Submitted on 1/12/06. See 40 CFR 52.1490(c)(56)(i)(A)(3)(iv).
445B.116 | “Odor” defined | 10/30/95 | 71 FR 15040 (3/27/06) | Most recently approved version was submitted on 1/12/06. See 40 CFR 52.1490(c)(56)(i)(A)(3)(i).
445B.117 | “Offset” defined | 10/30/95 | 77 FR 59321 (9/27/12) | Submitted on 1/24/11. November 2010 codification of NAC chapter 445B published by the Nevada Legislative Counsel Bureau.
445B.119 | “One-hour period” defined | 10/22/87 | 71 FR 15040 (3/27/06) | Most recently approved version was submitted on 1/12/06. See 40 CFR 52.1490(c)(56)(i)(A)(2)(ii).
445B.121 | “Opacity” defined | 12/4/76 | 71 FR 15040 (3/27/06) | Originally adopted on 9/16/76. Most recently approved version was submitted on 1/12/06. See 40 CFR 52.1490(c)(56)(i)(A)(1)(i).
445B.122 | “Open burning” defined | 12/4/76 | 71 FR 15040 (3/27/06) | Originally adopted on 9/16/76. Most recently approved version was submitted on 1/12/06. See 40 CFR 52.1490(c)(56)(i)(A)(1)(i).
445B.123 | “Operating permit” defined | 07/22/10 | 77 FR 59321 (9/27/12) | Submitted on 1/24/11. November 2010 codification of NAC chapter 445B published by the Nevada Legislative Counsel Bureau.
445B.124 | “Operating permit to construct” defined | 12/17/02 | 77 FR 59321 (9/27/12) | Submitted on 1/24/11. November 2010 codification of NAC chapter 445B published by the Nevada Legislative Counsel Bureau.
445B.125 | “Ore” defined | 11/17/78 | 71 FR 15040 (3/27/06) | Originally adopted on 9/12/78. Most recently approved version was submitted on 1/12/06. See 40 CFR 52.1490(c)(56)(i)(A)(1)(iii).
445B.127 | “Owner or operator” defined | 12/4/76 | 71 FR 15040 (3/27/06) | Originally adopted on 9/16/76. Most recently approved version was submitted on 1/12/06. See 40 CFR 52.1490(c)(56)(i)(A)(1)(i).
445B.129 | “Particulate matter” defined | 12/4/76 | 71 FR 15040 (3/27/06) | Originally adopted on 9/16/76. Most recently approved version was submitted on 1/12/06. See 40 CFR 52.1490(c)(56)(i)(A)(1)(i).
445B.130 | “Pathological wastes” defined | 10/30/95 | 71 FR 15040 (3/27/06) | Most recently approved version was submitted on 1/12/06. See 40 CFR 52.1490(c)(56)(i)(A)(3)(i).
445B.134 | Person | 9/18/06 | 72 FR 19801 (4/20/07) | Most recently approved version was submitted on 12/8/06. See 40 CFR 52.1490(c)(62)(i)(A)(1).
445B.1345 | “Plantwide applicability limitation” defined | 07/22/10 | 77 FR 59321 (9/27/12) | Submitted on 1/24/11. November 2010 codification of NAC chapter 445B published by the Nevada Legislative Counsel Bureau.
445.565 | “Petroleum” defined | 12/4/76 | 49 FR 11626 (3/27/84) | Most recently approved version was submitted on 10/26/82. See 40 CFR 52.1490(c)(25)(i)(A).
445B.135 | “PM10” defined | 12/26/91 | 71 FR 15040 (3/27/06) | Submitted on 1/12/06. See 40 CFR 52.1490(c)(56)(i)(A)(2)(iv).
445B.138 | “Potential to emit” defined | 12/16/10 | 77 FR 59321 (9/27/12) | Submitted on 1/24/11. June 2012 codification of NAC chapter 445B published by the Nevada Legislative Counsel Bureau.
Article 1.131 | Point source | 12/4/76 | 43 FR 36932 (8/21/78) | Submitted on 12/10/76. See 40 CFR 52.1490(c)(12).
445.570 | “Portland cement plant” defined | 12/4/76 | 49 FR 11626 (3/27/84) | Most recently approved version was submitted on 10/26/82. See 40 CFR 52.1490(c)(25)(i)(A).
445.574 | “Precious metal” defined | 8/28/79 | 49 FR 11626 (3/27/84) | Submitted on 10/26/82. See 40 CFR 52.1490(c)(25)(i)(A).
445.575 | “Precious metal processing plant” defined | 8/28/79 | 49 FR 11626 (3/27/84) | Submitted on 10/26/82. See 40 CFR 52.1490(c)(25)(i)(A).
445B.142 | “Prevention of significant deterioration of air quality” defined | 12/13/93 | 77 FR 59321 (9/27/12) | Submitted on 1/24/11. November 2010 codification of NAC chapter 445B published by the Nevada Legislative Counsel Bureau.
445B.144 | “Process equipment” defined | 12/4/76 | 71 FR 15040 (3/27/06) | Most recently version was submitted on 1/12/06. See 40 CFR 52.1490(c)(56)(i)(A)(1)(i).
445B.145 | “Process weight” defined | 10/30/95 | 71 FR 15040 (3/27/06) | Most recently approved version was submitted on 1/12/06. See 40 CFR 52.1490(c)(56)(i)(A)(3)(i).
445B.147 | “Program” defined | 12/13/93 | 77 FR 59321 (9/27/12) | Submitted on 1/24/11. November 2010 codification of NAC chapter 445B published by the Nevada Legislative Counsel Bureau.
445.585 | “Process weight rate” defined | 8/28/79 | 49 FR 11626 (3/27/84) | Most recently approved version was submitted on 10/26/82. See 40 CFR 52.1490(c)(25)(i)(A).
445B.151 | “Reference conditions” defined | 10/22/87 | 71 FR 15040 (3/27/06) | Most recently approved version was submitted on 1/12/06. See 40 CFR 52.1490(c)(56)(i)(A)(2)(ii).
445B.152 | “Reference method” defined | 10/30/95 | 71 FR 15040 (3/27/06) | Most recently approved version was submitted on 1/12/06. See 40 CFR 52.1490(c)(56)(i)(A)(3)(i).
445.592 | “Registration certificate” defined | 8/28/79 | 49 FR 11626 (3/27/84) | Most recently approved version was submitted on 10/26/82. See 40 CFR 52.1490(c)(25)(i)(A).
445B.153 | “Regulated air pollutant” defined | 10/31/05 | 73 FR 19144 (4/9/08) | Submitted on 6/26/07. See 40 CFR 52.1490(c)(66)(i)(A)(3)(iii).
445B.154 | “Renewal of an operating permit” defined | 12/13/93 | 77 FR 59321 (9/27/12) | Submitted on 1/24/11. November 2010 codification of NAC chapter 445B published by the Nevada Legislative Counsel Bureau.
445B.156 | “Responsible official” defined | 07/22/10 | 77 FR 59321 (9/27/12) | Submitted on 1/24/11. November 2010 codification of NAC chapter 445B published by the Nevada Legislative Counsel Bureau.
445B.157 | “Revision of an operating permit” defined | 09/24/04 | 77 FR 59321 (9/27/12) | Submitted on 1/24/11. November 2010 codification of NAC chapter 445B published by the Nevada Legislative Counsel Bureau.
445.597 | “Roaster” defined | 12/4/76 | 49 FR 11626 (3/27/84) | Most recently approved version was submitted on 10/26/82. See 40 CFR 52.1490(c)(25)(i)(A).
445B.161 | “Run” defined | 12/4/76 | 71 FR 15040 (3/27/06) | Most recently approved version was submitted on 1/12/06. See 40 CFR 52.1490(c)(56)(i)(A)(1)(i).
445B.163 | “Salvage operation” defined | 12/4/76 | 71 FR 15040 (3/27/06) | Most recently approved version was submitted on 1/12/06. See 40 CFR 52.1490(c)(56)(i)(A)(1)(i).
445B.167 | “Shutdown” defined | 12/4/76 | 71 FR 15040 (3/27/06) | Most recently approved version was submitted on 1/12/06. See 40 CFR 52.1490(c)(56)(i)(A)(1)(i).
445B.168 | “Single chamber incinerator” defined | 12/27/77 | 71 FR 15040 (3/27/06) | Most recently approved version was submitted on 1/12/06. See 40 CFR 52.1490(c)(56)(i)(A)(1)(ii).
Article 1.171 | Single source | 11/7/75 | 43 FR 36932 (8/21/78) | Submitted on 12/10/76. See 40 CFR 52.1490(c)(12).
445B.172 | “Six-minute period” defined | 12/4/76 | 73 FR 19144 (4/9/08) | Most recently approved version was submitted on 6/26/07. See 40 CFR 52.1490(c)(66)(i)(A)(1)(i).
445.618 | “Slag” defined | 12/4/76 | 49 FR 11626 (3/27/84) | Most recently approved version was submitted on 10/26/82. See 40 CFR 52.1490(c)(25)(i)(A).
445B.174 | “Smoke” defined | 12/4/76 | 71 FR 15040 (3/27/06) | Most recently approved version was submitted on 1/12/06. See 40 CFR 52.1490(c)(56)(i)(A)(1)(i).
445B.176 | “Solid waste” defined | 12/4/76 | 71 FR 15040 (3/27/06) | Most recently approved version was submitted on 1/12/06. See 40 CFR 52.1490(c)(56)(i)(A)(1)(i).
445B.177 | “Source” defined | 10/30/95 | 71 FR 15040 (3/27/06) | Most recently approved version was submitted on 1/12/06. See 40 CFR 52.1490(c)(56)(i)(A)(3)(i).
445B.180 | “Stack and chimney” defined | 10/30/95 | 71 FR 15040 (3/27/06) | Most recently approved version was submitted on 1/12/06. See 40 CFR 52.1490(c)(56)(i)(A)(3)(i).
445B.182 | “Standard” defined | 11/15/94 | 71 FR 15040 (3/27/06) | Most recently approved version was submitted on 1/12/06. See 40 CFR 52.1490(c)(56)(i)(A)(2)(vi).
445B.185 | “Start-up” defined | 12/4/76 | 71 FR 15040 (3/27/06) | Originally adopted on 9/16/76. Most recently approved version was submitted on 1/12/06. See 40 CFR 52.1490(c)(56)(i)(A)(1)(i).
445B.187 | “Stationary source” defined | 12/16/10 | 77 FR 59321 (9/27/12) | Submitted on 1/24/11. June 2012 codification of NAC chapter 445B published by the Nevada Legislative Counsel Bureau.
445B.190 | “Stop order” defined | 12/13/93 | 73 FR 19144 (4/9/08) | Most recently approved version was submitted on 6/26/07. See 40 CFR 52.1490(c)(66)(i)(A)(2)(i).
445B.194 | “Temporary source” defined | 06/01/01 | 77 FR 59321 (9/27/12) | Submitted on 1/24/11. November 2010 codification of NAC chapter 445B published by the Nevada Legislative Counsel Bureau.
445.633 | “Submerged fill pipe” defined | 12/4/76 | 49 FR 11626 (3/27/84) | Most recently approved version was submitted on 10/26/82. See 40 CFR 52.1490(c)(25)(i)(A).
445B.198 | “Uncombined water” defined | 12/4/76 | 71 FR 15040 (3/27/06) | Originally adopted on 9/16/76. Most recently approved version was submitted on 1/12/06. See 40 CFR 52.1490(c)(56)(i)(A)(1)(i).
445B.200 | “Violation” defined | 12/13/93 | 77 FR 59321 (9/27/12) | Submitted on 5/21/12. November 2010 codification of NAC chapter 445B published by the Nevada Legislative Counsel Burea.
445B.202 | “Volatile organic compounds” defined | 11/15/94 | 71 FR 71486 (12/11/06) | Most recently approved version was submitted on 1/12/06. See 40 CFR 52.1490(c)(56)(i)(A)(6)(iii).
445B.205 | “Waste” defined | 12/4/76 | 71 FR 15040 (3/27/06) | Originally adopted on 9/16/76. Most recently approved version was submitted on 1/12/06. See 40 CFR 52.1490(c)(56)(i)(A)(1)(i).
445B.207 | “Wet garbage” defined | 12/4/76 | 71 FR 15040 (3/27/06) | Originally adopted on 9/16/76. Most recently approved version was submitted on 1/12/06. See 40 CFR 52.1490(c)(56)(i)(A)(1)(i).
445B.209 | “Year” defined | 10/22/87 | 71 FR 15040 (3/27/06) | Most recently approved version was submitted on 1/12/06. See 40 CFR 52.1490(c)(56)(i)(A)(2)(ii).
445B.211 | Abbreviations | 9/24/04 | 71 FR 15040 (3/27/06) | Most recently approved version was submitted on 1/12/06. See 40 CFR 52.1490(c)(56)(i)(A)(3)(vii).
Nevada Administrative Code, Chapter 445B, Air Controls, Air Pollution; Nevada Administrative Code, Chapter 445, Air Controls, Air Pollution; Nevada Air Quality Regulations—General Provisions
445B.220 | Severability | 1/1/07 | 73 FR 19144 (4/9/08) | Most recently approved version was submitted on 6/26/07. See 40 CFR 52.1490(c)(66)(i)(A)(3)(v).
445B.22017 | Visible emissions: Maximum opacity; determination and monitoring of opacity | 4/1/06 | 73 FR 19144 (4/9/08) | Most recently approved version submitted on 6/26/07. See 40 CFR 52.1490(c)(66)(A)(3)(iii).
445B.2202 | Visible emissions: Exceptions for stationary sources | 4/1/06 | 73 FR 19144 (4/9/08) | Most recently approved version submitted on 6/26/07. See 40 CFR 52.1490(c)(66)(A)(3)(iii).
Article 16.3.3, subsections 16.3.3.2 and 16.3.3.3 | Standard for Opacity [Portland cement plants] | 3/31/77 | 47 FR 26386 (6/18/82) | Submitted on 12/29/78. See 40 CFR 52.1490(c)(14)(viii). Subsection 16.3.3.1 was deleted without replacement at 72 FR 25971 (5/8/07).
445.729 | Process weight rate for calculating emission rates | 12/4/76 | 49 FR 11626 (3/27/84) | Most recently approved version was submitted on 10/26/82. See 40 CFR 52.1490(c)(25)(i)(A).
Article 7.2.5.1 | [Establishes maximum allowable particulate emissions rate for the first barite grinding mill at Milchem Inc. near Battle Mountain] | 12/3/80 | 47 FR 26386 (6/18/82) | Submitted on 11/5/80. See 40 CFR 52.1490(c)(22)(ii).
445.808(1), (2)(a-c), (3), (4), and (5) | [Establishes standards for maximum allowable particulate emissions rate and discharge opacity for certain barite grinding mills at IMCO Services and at Dresser Industries, in or near Battle Mountain] | 8/24/83 (adopted) | 49 FR 11626 (3/27/84) | Submitted on 9/14/83. See 40 CFR 52.1490(c)(26)(i)(A).
445.816(1), (2)(d), (3), (4), and (5) | [Establishes standards for maximum allowable particulate emissions rate and discharge opacity for certain processing plants for precious metals at the Freeport Gold Company in the North Fork area] | 8/24/83 (adopted) | 49 FR 11626 (3/27/84) | Submitted on 9/14/83. See 40 CFR 52.1490(c)(26)(i)(A).
445.730 | Colemanite flotation processing plants | 11/17/78 | 49 FR 11626 (3/27/84) | Most recently approved version was submitted on 10/26/82. See 40 CFR 52.1490(c)(25)(i)(A).
445B.22027 | Emissions of particulate matter: Maximum allowable throughput for calculating emissions rates | 3/5/98 | 72 FR 25971 (5/8/07) | Most recently approved version was submitted on 1/12/06. See 40 CFR 52.1490(c)(56)(i)(A)(3)(ii).
445B.2203 | Emissions of particulate matter: Fuel-burning equipment | 9/27/99 | 72 FR 25971 (5/8/07) | Most recently approved version was submitted on 1/12/06. See 40 CFR 52.1490(c)(56)(i)(A)(3)(iii).
445B.22033 | Emissions of particulate matter: Sources not otherwise limited | 3/5/98 | 72 FR 25971 (5/8/07) | Most recently approved version was submitted on 1/12/06. See 40 CFR 52.1490(c)(56)(i)(A)(3)(ii).
445B.22037 | Emissions of particulate matter: Fugitive dust | 10/30/95 | 72 FR 25971 (5/8/07) | Most recently approved version was submitted on 1/12/06. See 40 CFR 52.1490(c)(56)(i)(A)(3)(i).
Article 8, subsection 8.2.1 | [Indirect Heat Transfer Fuel Burning Equipment—Sulfur emission limits] | 1/28/72 (submitted) | 37 FR 10842 (5/31/72) | Submitted on 1/28/72. See 40 CFR 52.1490(b).
Article 8.2.2 | [“Sulfur emission” defined for purposes of Article 8.] | 12/4/76 | 46 FR 43141 (8/27/81) | Submitted on 12/29/78. See 40 CFR 52.1490(c)(14)(vii).
445B.2204 | “Sulfur emission” defined | 12/4/76 | 71 FR 15040 (3/27/06) | Originally adopted on 9/16/76. Most recently approved version was submitted on 1/12/06. See 40 CFR 52.1490(c)(56)(i)(A)(1)(i).
445B.22043 | Sulfur emissions: Calculation of total feed sulfur | 9/24/04 | 73 FR 19144 (4/9/08) | Most recently approved version submitted on 6/26/07. See 40 CFR 52.1490(c)(66)(A)(3)(ii).
445B.22047 | Sulfur emissions: Fuel-burning equipment | 9/27/99 | 71 FR 15040 (3/27/06) | Most recently approved version was submitted on 1/12/06. See 40 CFR 52.1490(c)(56)(i)(A)(3)(iii).
445B.2205 | Sulfur emissions: Other processes which emit sulfur | 9/24/04 | 73 FR 19144 (4/9/08) | Most recently approved version was submitted on 6/26/07. See 40 CFR 52.1490(c)(66)(A)(3)(ii).
445B.22067 | Open burning | 4/15/04 | 71 FR 15040 (3/27/06) | Most recently approved version was submitted on 1/12/06. See 40 CFR 52.1490(c)(56)(i)(A)(3)(vi).
445B.2207 | Incinerator burning | 4/15/04 | 71 FR 15040 (3/27/06) | Most recently approved version was submitted on 1/12/06. See 40 CFR 52.1490(c)(56)(i)(A)(3)(vi).
445B.22083 | Construction, major modification or relocation of plants to generate electricity using steam produced by burning of fossil fuels | 10/31/05 | 73 FR 20536 (4/16/08) | Most recently approved version was submitted on 8/20/07. See 40 CFR 52.1490(c)(67)(i)(A)(1).
445B.2209 | Reduction of animal matter | 12/4/76 | 71 FR 15040 (3/27/06) | Originally adopted on 9/16/76. Most recently approved version was submitted on 1/12/06. See 40 CFR 52.1490(c)(56)(i)(A)(1)(i).
445B.22093 | Organic solvents and other volatile compounds | 10/31/05 | 73 FR 19144 (4/9/08) | Most recently approved version was submitted on 6/26/07. See 40 CFR 52.1490(c)(66)(i)(A)(3)(iii).
445B.22095 | Emission limitation for BART | 4/23/09 | 77 FR 17334 (3/26/12) | Included in supplemental SIP revision submitted on September 20, 2011, and approved as part of approval of Nevada Regional Haze SIP.
445B.22096, excluding the NOX averaging time and control type for units 1, 2 and 3 and the NOX emission limit for unit 3 in sub-paragraph (1)(c), all of which EPA has disapproved | Control measures constituting BART; limitations on emissions | 1/28/10 | 77 FR 50936 (8/23/12) | Included in supplemental SIP revision submitted on September 20, 2011, and approved as part of approval of Nevada Regional Haze SIP. Excluding the NOX averaging time and control type for units 1, 2 and 3 and the NOX emission limit for unit 3 of NV Energy's Reid Gardner Generating Station, all of which EPA has disapproved.
445B.22097 | Standards of quality for ambient air | 4/26/04 | 71 FR 15040 (3/27/06) | Most recently approved version was submitted on 1/12/06. See 40 CFR 52.1490(c)(56)(i)(A)(3)(vi).
445B.225 | Prohibited conduct: Concealment of emissions | 10/30/95 | 73 FR 19144 (4/9/08) | Most recently approved version was submitted on 6/26/07. See 40 CFR 52.1490(c)(66)(i)(A)(3)(i).
445B.227 | Prohibited conduct: Operation of source without required equipment; removal or modification of required equipment; modification of required procedure | 1/11/96 | 73 FR 19144 (4/9/08) | Most recently approved version was submitted on 1/12/06. See 40 CFR 52.1490(c)(56)(i)(A)(3)(i).
445B.229 | Hazardous emissions: Order for reduction or discontinuance | 10/30/95 | 73 FR 19144 (4/9/08) | Most recently approved version was submitted on 6/26/07. See 40 CFR 52.1490(c)(66)(i)(A)(3)(i).
445B.230 | Plan for reduction in emissions | 9/18/06 | 72 FR 19801 (4/20/07) | Most recently approved version was submitted on 12/8/06. See 40 CFR 52.1490(c)(62)(i)(A)(1).
445.667 | Excess emissions: Scheduled maintenance; testing; malfunction | 8/28/79 | 49 FR 11626 (3/27/84) | Most recently approved version was submitted on 10/26/82. See 40 CFR 52.1490(c)(25)(i)(A).
Article 2.5 (“Scheduled Maintenance, Testing, and Breakdown or Upset”), subsection 2.5.4 | [related to breakdown or upset] | 11/7/75 | 43 FR 1341 (1/9/78) | Submitted on 10/31/75. See 40 CFR 52.1490(c)(11). Article 2.5, subsection 2.5.4 states: “Breakdown or upset, determined by the Director to be unavoidable and not the result of careless or marginal operations, shall not be considered a violation of these regulations.”
445B.250 | Notification of Director: Construction, reconstruction and initial start-up; demonstration of continuous monitoring system performance | 10/31/05 | 73 FR 20536 (4/16/08) | Most recently approved version was submitted on 8/20/07. See 40 CFR 52.1490(c)(67)(i)(A)(1).
445B.252 | Testing and sampling | 10/30/03 | 73 FR 20536 (4/16/08) | Most recently approved version was submitted on 1/12/06. See 40 CFR 52.1490(c)(56)(i)(A)(3)(i).
445B.256 | Monitoring systems: Calibration, operation and maintenance of equipment | 10/30/95 | 71 FR 71486 (12/11/06) | Most recently approved version was submitted on 1/12/06. See 40 CFR 52.1490(c)(56)(i)(A)(7)(i).
445B.257 | Monitoring systems: Location | 12/4/76 | 71 FR 71486 (12/11/06) | Most recently approved version was submitted on 1/12/06. See 40 CFR 52.1490(c)(56)(i)(A)(5)(i).
445B.258 | Monitoring systems: Verification of operational status | 9/18/06 | 72 FR 19801 (4/20/07) | Most recently approved version was submitted on 12/8/06. See 40 CFR 52.1490(c)(62)(i)(A)(1).
445B.259 | Monitoring systems: Performance evaluations | 9/18/06 | 72 FR 19801 (4/20/07) | Most recently approved version was submitted on 12/8/06. See 40 CFR 52.1490(c)(62)(i)(A)(1).
445B.260 | Monitoring systems: Components contracted for before September 11, 1974 | 9/18/06 | 72 FR 19801 (4/20/07) | Most recently approved version was submitted on 12/8/06. See 40 CFR 52.1490(c)(62)(i)(A)(1).
445B.261 | Monitoring systems: Adjustments | 12/4/76 | 71 FR 71486 (12/11/06) | Most recently approved version was submitted on 1/12/06. See 40 CFR 52.1490(c)(56)(i)(A)(5)(i).
445B.262 | Monitoring systems: Measurement of opacity | 10/30/03 | 71 FR 71486 (12/11/06) | Most recently approved version was submitted on 1/12/06. See 40 CFR 52.1490(c)(56)(i)(A)(7)(iii).
445B.263 | Monitoring systems: Frequency of operation | 12/4/76 | 71 FR 71486 (12/11/06) | Most recently approved version was submitted on 1/12/06. See 40 CFR 52.1490(c)(56)(i)(A)(5)(i).
445B.264 | Monitoring systems: Recordation of data | 9/25/00 | 71 FR 71486 (12/11/06) | Most recently approved version was submitted on 1/12/06. See 40 CFR 52.1490(c)(56)(i)(A)(7)(ii).
445B.265 | Monitoring systems: Records; reports | 7/2/84 | 71 FR 71486 (12/11/06) | Most recently approved version was submitted on 1/12/06. See 40 CFR 52.1490(c)(56)(i)(A)(6)(i).
445B.267 | Alternative monitoring procedures or requirements | 10/30/03 | 71 FR 71486 (12/11/06) | Most recently approved version was submitted on 1/12/06. See 40 CFR 52.1490(c)(56)(i)(A)(7)(iii).
445B.275 | Violations: Acts constituting; notice | 5/4/06 | 73 FR 19144 (4/9/08) | Most recently approved version was submitted on 6/26/07. See 40 CFR 52.1490(c)(66)(i)(A)(3)(iv).
445B.277 | Stop orders | 5/4/06 | 73 FR 19144 (4/9/08) | Most recently approved version was submitted on 6/26/07. See 40 CFR 52.1490(c)(66)(i)(A)(3)(iv).
445.694 | Emission discharge information | 12/4/76 | 49 FR 11626 (3/27/84) | Most recently approved version was submitted on 10/26/82. See 40 CFR 52.1490(c)(25)(i)(A).
445.699 | Violations: Administrative fines | 12/4/76 | 49 FR 11626 (3/27/84) | Most recently approved version was submitted on 10/26/82. See 40 CFR 52.1490(c)(25)(i)(A).
445.764 | Reduction of employees' pay because of use of system prohibited | 8/17/81 | 49 FR 11626 (3/27/84) | Most recently approved version was submitted on 10/26/82. See 40 CFR 52.1490(c)(25)(i)(A).
Nevada Administrative Code, Chapter 445B, Air Controls, Air Pollution—Operating Permits Generally
445B.287, excluding paragraphs (1)(d) and (4)(b) | Operating permits: General requirements; exception; restriction on transfers | 07/22/10 | 77 FR 59321 (9/27/12) | Submitted on 1/24/11, except for subsection (2), which was submitted on 5/21/12. November 2010 codification of NAC chapter 445B published by the Nevada Legislative Counsel Bureau.
445B.288 | Operating permits: Exemptions from requirements; insignificant activities | 04/17/08 | 77 FR 59321 (9/27/12) | Submitted on 1/24/11. November 2010 codification of NAC chapter 445B published by the Nevada Legislative Counsel Bureau.
445B.295 | Application: General requirements | 09/18/06 | 77 FR 59321 (9/27/12) | Submitted on 1/24/11. November 2010 codification of NAC chapter 445B published by the Nevada Legislative Counsel Bureau.
445B.297, excluding subsection (2) | Application: Submission; certification; additional information | 05/04/06 | 77 FR 59321 (9/27/12) | Submitted on 1/24/11. November 2010 codification of NAC chapter 445B published by the Nevada Legislative Counsel Bureau.
445B.298 | Application: Official date of submittal | 07/22/10 | 77 FR 59321 (9/27/12) | Submitted on 1/24/11. November 2010 codification of NAC chapter 445B published by the Nevada Legislative Counsel Bureau.
445B.305 | Operating permits: Imposition of more stringent standards for emissions | 07/22/10 | 77 FR 59321 (9/27/12) | Submitted on 1/24/11. November 2010 codification of NAC chapter 445B published by the Nevada Legislative Counsel Bureau.
445B.308, excluding paragraph (2)(d) and subsections (4), (5), and (10) | Prerequisites and conditions for issuance of certain operating permits; compliance with applicable state implementation plan | 04/17/08 | 77 FR 59321 (9/27/12) | Submitted on 1/24/11. November 2010 codification of NAC chapter 445B published by the Nevada Legislative Counsel Bureau.
445B.310 | Environmental evaluation: Applicable sources and other subjects; exemption | 09/18/06 | 77 FR 59321 (9/27/12) | Submitted on 1/24/11. November 2010 codification of NAC chapter 445B published by the Nevada Legislative Counsel Bureau.
445B.311 | Environmental evaluation: Contents; consideration of good engineering practice stack height | 12/16/10 | 77 FR 59321 (9/27/12) | Submitted on 1/24/11. June 2012 codification of NAC chapter 445B published by the Nevada Legislative Counsel Bureau.
445B.313 | Method for determining heat input: Class I sources | 12/16/10 | 77 FR 59321 (9/27/12) | Submitted on 1/24/11. June 2012 codification of NAC chapter 445B published by the Nevada Legislative Counsel Bureau.
445B.3135 | Method for determining heat input: Class II sources | 12/17/02 | 77 FR 59321 (9/27/12) | Submitted on 1/24/11. November 2010 codification of NAC chapter 445B published by the Nevada Legislative Counsel Bureau.
445B.314 | Method for determining heat input: Class III sources | 12/17/02 | 77 FR 59321 (9/27/12) | Submitted on 1/24/11. November 2010 codification of NAC chapter 445B published by the Nevada Legislative Counsel Bureau.
445B.315 | Contents of operating permits: Exception for operating permits to construct; required conditions | 5/4/06 | 77 FR 59321 (9/27/12) | Submitted on 1/24/11. November 2010 codification of NAC chapter 445B published by the Nevada Legislative Counsel Bureau.
445B.318 | Operating permits: Requirement for each source; form of application; issuance or denial; posting | 5/4/06 | 77 FR 59321 (9/27/12) | Submitted on 1/24/11. November 2010 codification of NAC chapter 445B published by the Nevada Legislative Counsel Bureau.
445B.319, excluding paragraph (3)(b) | Operating permits: Administrative amendment | 9/24/04 | 77 FR 59321 (9/27/12) | Submitted on 1/24/11. November 2010 codification of NAC chapter 445B published by the Nevada Legislative Counsel Bureau.
445B.325, excluding subsections (1), (3), and (4) | Operating permits: Termination, reopening and revision, revision, or revocation and reissuance | 7/22/10 | 77 FR 59321 (9/27/12) | Submitted on 1/24/11. November 2010 codification of NAC chapter 445B published by the Nevada Legislative Counsel Bureau.
445B.331 | Request for change of location of emission unit | 9/18/06 | 77 FR 59321 (9/27/12) | Submitted on 1/24/11. November 2010 codification of NAC chapter 445B published by the Nevada Legislative Counsel Bureau.
445B.3361, excluding paragraph (1)(b) and subsections (6) and (7) | General requirements | 7/22/10 | 77 FR 59321 (9/27/12) | Submitted on 1/24/11. November 2010 codification of NAC chapter 445B published by the Nevada Legislative Counsel Bureau.
445B.3363 | Operating permit to construct: Application | 1/28/10 | 77 FR 59321 (9/27/12) | Submitted on 1/24/11. November 2010 codification of NAC chapter 445B published by the Nevada Legislative Counsel Bureau.
445B.33637 | Operating permit to construct for approval of plantwide applicability limitation: Application | 9/24/04 | 77 FR 59321 (9/27/12) | Submitted on 1/24/11. November 2010 codification of NAC chapter 445B published by the Nevada Legislative Counsel Bureau.
445B.3364 | Operating permit to construct: Action by Director on application; notice; public comment and hearing | 1/28/10 | 77 FR 59321 (9/27/12) | Submitted on 1/24/11. November 2010 codification of NAC chapter 445B published by the Nevada Legislative Counsel Bureau.
445B.3365 | Operating permit to construct: Contents; noncompliance with conditions | 5/4/06 | 77 FR 59321 (9/27/12) | Submitted on 1/24/11. November 2010 codification of NAC chapter 445B published by the Nevada Legislative Counsel Bureau.
445B.33656 | Operating permit to construct for approval of plantwide applicability limitation: Contents; noncompliance with conditions | 5/4/06 | 77 FR 59321 (9/27/12) | Submitted on 1/24/11. November 2010 codification of NAC chapter 445B published by the Nevada Legislative Counsel Bureau.
445B.3366 | Expiration and extension of operating permit to construct; expiration and renewal of plantwide applicability limitation | 9/18/06 | 77 FR 59321 (9/27/12) | Submitted on 1/24/11. November 2010 codification of NAC chapter 445B published by the Nevada Legislative Counsel Bureau.
445B.3368 | Additional requirements for application; exception | 1/28/10 | 77 FR 59321 (9/27/12) | Submitted on 1/24/11. November 2010 codification of NAC chapter 445B published by the Nevada Legislative Counsel Bureau.
445B.3375, excluding subsections (2) and (3) | Class I-B application: Filing requirement | 9/18/06 | 77 FR 59321 (9/27/12) | Submitted on 1/24/11. November 2010 codification of NAC chapter 445B published by the Nevada Legislative Counsel Bureau.
445B.3395, excluding subsections (13), (14), and (15) | Action by Director on application; notice; public comment and hearing; objection by Administrator; expiration of permit | 4/17/08 | 77 FR 59321 (9/27/12) | Submitted on 1/24/11. November 2010 codification of NAC chapter 445B published by the Nevada Legislative Counsel Bureau.
445B.340, excluding subsection (3) | Prerequisites to issuance, revision or renewal of permit | 4/17/08 | 77 FR 59321 (9/27/12) | Submitted on 1/24/11. November 2010 codification of NAC chapter 445B published by the Nevada Legislative Counsel Bureau.
445B.342, excluding paragraph (3)(e) | Certain changes authorized without revision of permit; notification of authorized changes | 10/31/05 | 77 FR 59321 (9/27/12) | Submitted on 1/24/11. November 2010 codification of NAC chapter 445B published by the Nevada Legislative Counsel Bureau.
445B.3425 | Minor revision of permit | 9/24/04 | 77 FR 59321 (9/27/12) | Submitted on 1/24/11. November 2010 codification of NAC chapter 445B published by the Nevada Legislative Counsel Bureau.
445B.344 | Significant revision of permit | 12/17/02 | 77 FR 59321 (9/27/12) | Submitted on 1/24/11. November 2010 codification of NAC chapter 445B published by the Nevada Legislative Counsel Bureau.
445B.3441 | Administrative revision of permit to incorporate conditions of certain permits to construct | 9/18/06 | 77 FR 59321 (9/27/12) | Submitted on 1/24/11. November 2010 codification of NAC chapter 445B published by the Nevada Legislative Counsel Bureau.
445B.3443 | Renewal of permit | 12/17/08 | 77 FR 59321 (9/27/12) | Submitted on 1/24/11. November 2010 codification of NAC chapter 445B published by the Nevada Legislative Counsel Bureau.
445B.3447, excluding subsection (4) | Class I general permit | 12/17/02 | 77 FR 59321 (9/27/12) | Submitted on 5/21/12. November 2010 codification of NAC chapter 445B published by the Nevada Legislative Counsel Bureau.
445B.3453, excluding subsection (3) | Application: General requirements | 5/4/06 | 77 FR 59321 (9/27/12) | Submitted on 1/24/11. November 2010 codification of NAC chapter 445B published by the Nevada Legislative Counsel Bureau.
445B.3457 | Action by Director on application; notice; public comment and hearing; expiration of permit | 10/26/11 | 77 FR 59321 (9/27/12) | Submitted on 11/09/11. June 2012 codification of NAC chapter 445B published by the Nevada Legislative Counsel Bureau.
445B.346, excluding subsection (6) | Required contents of permit | 10/30/95 | 77 FR 59321 (9/27/12) | Submitted on 1/24/11. November 2010 codification of NAC chapter 445B published by the Nevada Legislative Counsel Bureau.
445B.3465 | Application for revision | 10/31/05 | 77 FR 59321 (9/27/12) | Submitted on 1/24/11. November 2010 codification of NAC chapter 445B published by the Nevada Legislative Counsel Bureau.
445B.3473 | Renewal of permit | 12/17/08 | 77 FR 59321 (9/27/12) | Submitted on 1/24/11. November 2010 codification of NAC chapter 445B published by the Nevada Legislative Counsel Bureau.
445B.3477 | Class II general permit | 4/17/08 | 77 FR 59321 (9/27/12) | Submitted on 1/24/11. November 2010 codification of NAC chapter 445B published by the Nevada Legislative Counsel Bureau.
445B.3485 | Application: General requirements | 9/18/06 | 77 FR 59321 (9/27/12) | Submitted on 1/24/11. November 2010 codification of NAC chapter 445B published by the Nevada Legislative Counsel Bureau.
445B.3487 | Action by Director on application; expiration of permit | 9/18/06 | 77 FR 59321 (9/27/12) | Submitted on 1/24/11. November 2010 codification of NAC chapter 445B published by the Nevada Legislative Counsel Bureau.
445B.3489 | Required contents of permit | 9/18/06 | 77 FR 59321 (9/27/12) | Submitted on 1/24/11. November 2010 codification of NAC chapter 445B published by the Nevada Legislative Counsel Bureau.
445B.3493 | Application for revision | 10/25/01 | 77 FR 59321 (9/27/12) | Submitted on 1/24/11. November 2010 codification of NAC chapter 445B published by the Nevada Legislative Counsel Bureau.
445B.3497 | Renewal of permit | 12/17/08 | 77 FR 59321 (9/27/12) | Submitted on 1/24/11. November 2010 codification of NAC chapter 445B published by the Nevada Legislative Counsel Bureau.
Nevada Air Quality Regulations—Point Sources and Registration Certificates
Nevada Air Quality Regulations (NAQR), Article 13 (“Point Sources”), subsection 13.1, paragraph 13.1.1 | General Provisions for the Review of New Sources | 12/15/77 | 47 FR 27070 (6/23/82) | Submitted on 7/24/79. See 40 CFR 52.1490(c)(16)(viii).
NAQR, Article 13, subsection 13.1, paragraph 13.1.3 [excluding 13.1.3(1) and 13.1.3(3)] | [related to registration certificates for point sources subject to the requirement for an environmental evaluation; additional requirements for such sources to be located in nonattainment areas] | 2/28/80 | 46 FR 21758 (4/14/81) | Submitted on 3/17/80. See 40 CFR 52.1490(c)(18)(i). NAQR article 13.1.3(3) was deleted without replacement at 73 FR 20536 (4/16/08). See 40 CFR 52.1490(c)(18)(i)(A). NAQR article 13.1.3(1) was superseded by approval of amended NSR rules at 77 FR 59321 (9/27/12).
NAQR Article 13, subsection 13.2 (excluding 13.2.3 and 13.2.4) | [relates to thresholds used to identify sources subject to environmental evaluation requirement] | 12/15/77 | 47 FR 27070 (6/23/82) | Submitted on 7/24/79. See 40 CFR 52.1490(c)(16)(viii). Subsection 13.2 includes paragraphs 13.2.1-13.2.2. Paragraphs 13.2.3-13.2.4 were superseded by approval of amended NSR rules at 77 FR 59321 (9/27/12).
Nevada Revised Statutes, Title 58, Energy; Public Utilities and Similar Entities: Regulation of Public Utilities Generally
704.820 | Short title | 1/1/79 | 47 FR 15790 (4/13/82) | NRS 704.820 to 704.900, inclusive, is cited as the Utility Environmental Protection Act. Submitted on 10/13/80. See 40 CFR 52.1490(c)(21)(i).
704.825 | Declaration of legislative findings and purpose | 1/1/79 | 47 FR 15790 (4/13/82) | Submitted on 10/13/80. See 40 CFR 52.1490(c)(21)(i).
704.830 | Definitions | 1/1/79 | 47 FR 15790 (4/13/82) | Submitted on 10/13/80. See 40 CFR 52.1490(c)(21)(i).
704.840 | “Commence to construct” defined | 1/1/79 | 47 FR 15790 (4/13/82) | Submitted on 10/13/80. See 40 CFR 52.1490(c)(21)(i).
704.845 | “Local government” defined | 1/1/79 | 47 FR 15790 (4/13/82) | Submitted on 10/13/80. See 40 CFR 52.1490(c)(21)(i).
704.850 | “Person” defined | 1/1/79 | 47 FR 15790 (4/13/82) | Submitted on 10/13/80. See 40 CFR 52.1490(c)(21)(i).
704.855 | “Public utility,” “utility” defined | 1/1/79 | 47 FR 15790 (4/13/82) | Submitted on 10/13/80. See 40 CFR 52.1490(c)(21)(i).
704.860 | “Utility facility” defined | 1/1/79 | 47 FR 15790 (4/13/82) | Submitted on 10/13/80. See 40 CFR 52.1490(c)(21)(i).
704.865 | Construction permit: Requirement; transfer; exceptions to requirement | 1/1/79 | 47 FR 15790 (4/13/82) | Submitted on 10/13/80. See 40 CFR 52.1490(c)(21)(i).
704.870 | Construction permit application: Form, contents; filing; service; public notice | 1/1/79 | 47 FR 15790 (4/13/82) | Submitted on 10/13/80. See 40 CFR 52.1490(c)(21)(i).
704.875 | Review of application by state environmental commission | 1/1/79 | 47 FR 15790 (4/13/82) | Submitted on 10/13/80. See 40 CFR 52.1490(c)(21)(i).
704.880 | Hearing on application for permit | 1/1/79 | 47 FR 15790 (4/13/82) | Submitted on 10/13/80. See 40 CFR 52.1490(c)(21)(i).
704.885 | Parties to permit proceeding; appearances; intervention | 1/1/79 | 47 FR 15790 (4/13/82) | Submitted on 10/13/80. See 40 CFR 52.1490(c)(21)(i).
704.890 | Grant or denial of application; required findings; service of copies of order | 1/1/79 | 47 FR 15790 (4/13/82) | Submitted on 10/13/80. See 40 CFR 52.1490(c)(21)(i).
704.892 | Grant, denial, conditioning of permit for plant for generation of electrical energy for export | 1/1/79 | 47 FR 15790 (4/13/82) | Submitted on 10/13/80. See 40 CFR 52.1490(c)(21)(i).
704.895 | Rehearing; judicial review | 1/1/79 | 47 FR 15790 (4/13/82) | Submitted on 10/13/80. See 40 CFR 52.1490(c)(21)(i).
704.900 | Cooperation with United States, other states | 1/1/79 | 47 FR 15790 (4/13/82) | Submitted on 10/13/80. See 40 CFR 52.1490(c)(21)(i).
General Order No. 3, Rules of Practice and Procedure Before the Public Service Commission
Rule 25 | Construction Permits—Utility Environmental Protection Act | 1/1/79 | 47 FR 15790 (4/13/82) | Submitted on 10/13/80. See 40 CFR 52.1490(c)(21)(ii).
Nevada Administrative Code, Chapter 445B, Air Controls, Emissions From Engines—General Provisions
445B.400 | Scope | 9/1/06 | 73 FR 38124 (7/3/08) | Most recently approved version was submitted on 5/11/07. See 40 CFR 52.1490(c)(71)(i)(A)(2).
445B.401 | Definitions | 8/21/02 | 73 FR 38124 (7/3/08) | Most recently approved version was submitted on 5/11/07. See 40 CFR 52.1490(c)(71)(i)(A)(2).
445B.403 | “Approved inspector” defined | 8/19/94 | 73 FR 38124 (7/3/08) | Most recently approved version was submitted on 5/11/07. See 40 CFR 52.1490(c)(71)(i)(A)(2).
445B.4045 | “Authorized inspection station” defined | 8/19/94 | 73 FR 38124 (7/3/08) | Most recently approved version was submitted on 5/11/07. See 40 CFR 52.1490(c)(71)(i)(A)(2).
445B.405 | “Authorized station” defined | 1/10/78 | 73 FR 38124 (7/3/08) | Most recently approved version was submitted on 5/11/07. See 40 CFR 52.1490(c)(71)(i)(A)(2).
445B.408 | “Carbon monoxide” defined | 1/10/78 | 73 FR 38124 (7/3/08) | Most recently approved version was submitted on 5/11/07. See 40 CFR 52.1490(c)(71)(i)(A)(2).
445B.409 | “Certificate of compliance” defined | 9/13/95 | 73 FR 38124 (7/3/08) | Most recently approved version was submitted on 5/11/07. See 40 CFR 52.1490(c)(71)(i)(A)(2).
445B.4092 | “Certified on-board diagnostic system” defined | 8/21/02 | 73 FR 38124 (7/3/08) | Most recently approved version was submitted on 5/11/07. See 40 CFR 52.1490(c)(71)(i)(A)(2).
445B.4096 | “Class 1 approved inspector” defined | 9/13/95 | 73 FR 38124 (7/3/08) | Most recently approved version was submitted on 5/11/07. See 40 CFR 52.1490(c)(71)(i)(A)(2).
445B.4097 | “Class 1 fleet station” defined | 9/13/95 | 73 FR 38124 (7/3/08) | Most recently approved version was submitted on 5/11/07. See 40 CFR 52.1490(c)(71)(i)(A)(2).
445B.4098 | “Class 2 approved inspector” defined | 9/13/95 | 73 FR 38124 (7/3/08) | Most recently approved version was submitted on 5/11/07. See 40 CFR 52.1490(c)(71)(i)(A)(2).
445B.4099 | “Class 2 fleet station” defined | 9/13/95 | 73 FR 38124 (7/3/08) | Most recently approved version was submitted on 5/11/07. See 40 CFR 52.1490(c)(71)(i)(A)(2).
445B.410 | “CO2” defined | 9/28/88 | 73 FR 38124 (7/3/08) | Most recently approved version was submitted on 5/11/07. See 40 CFR 52.1490(c)(71)(i)(A)(2).
445B.411 | “Commission” defined | 1/10/78 | 73 FR 38124 (7/3/08) | Most recently approved version was submitted on 5/11/07. See 40 CFR 52.1490(c)(71)(i)(A)(2).
445B.413 | “Department” defined | 1/1/86 | 73 FR 38124 (7/3/08) | Most recently approved version was submitted on 5/11/07. See 40 CFR 52.1490(c)(71)(i)(A)(2).
445B.415 | “Director” defined | 8/19/94 | 73 FR 38124 (7/3/08) | Most recently approved version was submitted on 5/11/07. See 40 CFR 52.1490(c)(71)(i)(A)(2).
445B.416 | “Emission” defined | 1/10/78 | 73 FR 38124 (7/3/08) | Most recently approved version was submitted on 5/11/07. See 40 CFR 52.1490(c)(71)(i)(A)(2).
445B.418 | “EPA” defined | 9/28/88 | 73 FR 38124 (7/3/08) | Most recently approved version was submitted on 5/11/07. See 40 CFR 52.1490(c)(71)(i)(A)(2).
445B.419 | “Established place of business” defined | 1/10/78 | 73 FR 38124 (7/3/08) | Most recently approved version was submitted on 5/11/07. See 40 CFR 52.1490(c)(71)(i)(A)(2).
445B.420 | “Evidence of compliance” defined | 9/25/98 | 73 FR 38124 (7/3/08) | Most recently approved version was submitted on 5/11/07. See 40 CFR 52.1490(c)(71)(i)(A)(2).
445B.421 | “Exhaust emissions” defined | 1/10/78 | 73 FR 38124 (7/3/08) | Most recently approved version was submitted on 5/11/07. See 40 CFR 52.1490(c)(71)(i)(A)(2).
445B.422 | “Exhaust gas analyzer” defined | 1/10/78 | 73 FR 38124 (7/3/08) | Most recently approved version was submitted on 5/11/07. See 40 CFR 52.1490(c)(71)(i)(A)(2).
445B.424 | “Fleet station” defined | 8/19/94 | 73 FR 38124 (7/3/08) | Most recently approved version was submitted on 5/11/07. See 40 CFR 52.1490(c)(71)(i)(A)(2).
445B.4247 | “Gross vehicle weight rating” defined | 8/19/94 | 73 FR 38124 (7/3/08) | Most recently approved version was submitted on 5/11/07. See 40 CFR 52.1490(c)(71)(i)(A)(2).
445B.426 | “Heavy-duty motor vehicle” defined | 9/25/98 | 73 FR 38124 (7/3/08) | Most recently approved version was submitted on 5/11/07. See 40 CFR 52.1490(c)(71)(i)(A)(2).
445B.427 | “Hydrocarbon” defined | 9/28/88 | 73 FR 38124 (7/3/08) | Most recently approved version was submitted on 5/11/07. See 40 CFR 52.1490(c)(71)(i)(A)(2).
445B.428 | “Hz” defined | 9/28/88 | 73 FR 38124 (7/3/08) | Most recently approved version was submitted on 5/11/07. See 40 CFR 52.1490(c)(71)(i)(A)(2).
445B.432 | “Light-duty motor vehicle” defined | 9/25/98 | 73 FR 38124 (7/3/08) | Most recently approved version was submitted on 5/11/07. See 40 CFR 52.1490(c)(71)(i)(A)(2).
445B.433 | “Mini motor home” defined | 10/1/83 | 73 FR 38124 (7/3/08) | Most recently approved version was submitted on 5/11/07. See 40 CFR 52.1490(c)(71)(i)(A)(2).
445B.434 | “Motor home” defined | 10/1/83 | 73 FR 38124 (7/3/08) | Most recently approved version was submitted on 5/11/07. See 40 CFR 52.1490(c)(71)(i)(A)(2).
445B.435 | “Motor vehicle” defined | 1/10/78 | 73 FR 38124 (7/3/08) | Most recently approved version was submitted on 5/11/07. See 40 CFR 52.1490(c)(71)(i)(A)(2).
445B.440 | “New motor vehicle” defined | 1/10/78 | 73 FR 38124 (7/3/08) | Most recently approved version was submitted on 5/11/07. See 40 CFR 52.1490(c)(71)(i)(A)(2).
445B.442 | “Opacity” defined | 1/1/88 | 73 FR 38124 (7/3/08) | Most recently approved version was submitted on 5/11/07. See 40 CFR 52.1490(c)(71)(i)(A)(2).
445B.443 | “Person” defined | 1/1/88 | 73 FR 38124 (7/3/08) | Most recently approved version was submitted on 5/11/07. See 40 CFR 52.1490(c)(71)(i)(A)(2).
445B.444 | “ppm” defined | 9/28/88 | 73 FR 38124 (7/3/08) | Most recently approved version was submitted on 5/11/07. See 40 CFR 52.1490(c)(71)(i)(A)(2).
445B.449 | “Smoke” defined | 1/1/88 | 73 FR 38124 (7/3/08) | Most recently approved version was submitted on 5/11/07. See 40 CFR 52.1490(c)(71)(i)(A)(2).
445B.450 | “Special mobile equipment” defined | 1/10/78 | 73 FR 38124 (7/3/08) | Most recently approved version was submitted on 5/11/07. See 40 CFR 52.1490(c)(71)(i)(A)(2).
445B.451 | “Standard” defined | 9/25/98 | 73 FR 38124 (7/3/08) | Most recently approved version was submitted on 5/11/07. See 40 CFR 52.1490(c)(71)(i)(A)(2).
445B.4515 | “State electronic data transmission system” defined | 9/25/98 | 73 FR 38124 (7/3/08) | Most recently approved version was submitted on 5/11/07. See 40 CFR 52.1490(c)(71)(i)(A)(2).
445B.452 | “Tampering” defined | 1/10/78 | 73 FR 38124 (7/3/08) | Most recently approved version was submitted on 5/11/07. See 40 CFR 52.1490(c)(71)(i)(A)(2).
445B.4525 | “Test station” defined | 9/25/98 | 73 FR 38124 (7/3/08) | Most recently approved version was submitted on 5/11/07. See 40 CFR 52.1490(c)(71)(i)(A)(2).
445B.453 | “Truck” defined | 10/1/83 | 73 FR 38124 (7/3/08) | Most recently approved version was submitted on 5/11/07. See 40 CFR 52.1490(c)(71)(i)(A)(2).
445B.454 | “Used motor vehicle” defined | 1/10/78 | 73 FR 38124 (7/3/08) | Most recently approved version was submitted on 5/11/07. See 40 CFR 52.1490(c)(71)(i)(A)(2).
445B.455 | “Van conversion” defined | 10/1/83 | 73 FR 38124 (7/3/08) | Most recently approved version was submitted on 5/11/07. See 40 CFR 52.1490(c)(71)(i)(A)(2).
445B.4553 | “Vehicle inspection report” defined | 8/21/02 | 73 FR 38124 (7/3/08) | Most recently approved version was submitted on 5/11/07. See 40 CFR 52.1490(c)(71)(i)(A)(2).
445B.4556 | “Vehicle inspection report number” defined | 9/25/98 | 73 FR 38124 (7/3/08) | Most recently approved version was submitted on 5/11/07. See 40 CFR 52.1490(c)(71)(i)(A)(2).
445B.456 | Severability | 9/25/98 | 73 FR 38124 (7/3/08) | Most recently approved version was submitted on 5/11/07. See 40 CFR 52.1490(c)(71)(i)(A)(2).
Nevada Administrative Code, Chapter 445B, Air Controls, Emissions From Engines—Facilities for Inspection and Maintenance
445B.460 | Test station: License required to operate; expiration of license; ratings; performance of certain services; prohibited acts; location | 9/1/06 | 73 FR 38124 (7/3/08) | Most recently approved version was submitted on 5/11/07. See 40 CFR 52.1490(c)(71)(i)(A)(2).
445B.461, except for paragraph (3)(d) | Compliance by Federal Government, state agencies and political subdivisions | 9/25/98 | 73 FR 38124 (7/3/08) | Most recently approved version was submitted on 5/11/07. See 40 CFR 52.1490(c)(71)(i)(A)(2). NAC section 445B.461(3)(d) was deleted without replacement at 74 FR 3975 (1/22/09). See 40 CFR 52.1490(c)(71)(i)(A)(3).
445B.462 | Test station: Application for license to operate; inspection of premises; issuance of license | 9/25/98 | 73 FR 38124 (7/3/08) | Most recently approved version was submitted on 5/11/07. See 40 CFR 52.1490(c)(71)(i)(A)(2).
445B.463 | Test station: Grounds for denial, revocation or suspension of license; reapplication; permanent revocation of license | 8/21/02 | 73 FR 38124 (7/3/08) | Most recently approved version was submitted on 5/11/07. See 40 CFR 52.1490(c)(71)(i)(A)(2).
445B.464 | Test station: Hearing concerning denial, suspension or revocation of license | 9/25/98 | 73 FR 38124 (7/3/08) | Most recently approved version was submitted on 5/11/07. See 40 CFR 52.1490(c)(71)(i)(A)(2).
445B.465 | Authorized station or authorized inspection station: Requirements for bond or deposit | 9/1/06 | 73 FR 38124 (7/3/08) | Most recently approved version was submitted on 5/11/07. See 40 CFR 52.1490(c)(71)(i)(A)(2).
445B.466 | Authorized station or authorized inspection station: Liability under bond or deposit; suspension and reinstatement of licenses | 9/25/98 | 73 FR 38124 (7/3/08) | Most recently approved version was submitted on 5/11/07. See 40 CFR 52.1490(c)(71)(i)(A)(2).
445B.467 | Authorized station or authorized inspection station: Disbursement, release or refund of bond or deposit | 9/25/98 | 73 FR 38124 (7/3/08) | Most recently approved version was submitted on 5/11/07. See 40 CFR 52.1490(c)(71)(i)(A)(2).
445B.468 | Authorized stations and authorized inspection stations: Scope of coverage of bond or deposit | 9/1/06 | 73 FR 38124 (7/3/08) | Most recently approved version was submitted on 5/11/07. See 40 CFR 52.1490(c)(71)(i)(A)(2).
445B.469 | Authorized station or authorized inspection station: Posting of signs and placards | 9/1/06 | 73 FR 38124 (7/3/08) | Most recently approved version was submitted on 5/11/07. See 40 CFR 52.1490(c)(71)(i)(A)(2).
445B.470 | Test station: Display of licenses; availability of reference information | 9/1/06 | 73 FR 38124 (7/3/08) | Most recently approved version was submitted on 5/11/07. See 40 CFR 52.1490(c)(71)(i)(A)(2).
445B.471 | Test station: Advertising; provision by Department of certain informational material for public | 9/1/06 | 73 FR 38124 (7/3/08) | Most recently approved version was submitted on 5/11/07. See 40 CFR 52.1490(c)(71)(i)(A)(2).
445B.472 | Test station: Records of inspections and repairs; inspection of place of business; audit of exhaust gas analyzers | 9/1/06 | 73 FR 38124 (7/3/08) | Most recently approved version was submitted on 5/11/07. See 40 CFR 52.1490(c)(71)(i)(A)(2).
445B.473 | Test station: Notice of wrongfully distributed or received vehicle inspection reports; inventory of vehicle inspection reports | 9/1/06 | 73 FR 38124 (7/3/08) | Most recently approved version was submitted on 5/11/07. See 40 CFR 52.1490(c)(71)(i)(A)(2).
445B.474 | Test station: Failure to employ approved inspector | 7/17/03 | 73 FR 38124 (7/3/08) | Most recently approved version was submitted on 5/11/07. See 40 CFR 52.1490(c)(71)(i)(A)(2).
445B.475 | Authorized station or class 2 fleet station: Requirements for employees | 9/13/95 | 73 FR 38124 (7/3/08) | Most recently approved version was submitted on 5/11/07. See 40 CFR 52.1490(c)(71)(i)(A)(2).
445B.476 | Test station: Willful failure to comply with directive; suspension of license; reapplication after revocation of license | 9/25/98 | 73 FR 38124 (7/3/08) | Most recently approved version was submitted on 5/11/07. See 40 CFR 52.1490(c)(71)(i)(A)(2).
445B.478 | Fleet station: Licensing; powers and duties | 9/25/98 | 73 FR 38124 (7/3/08) | Most recently approved version was submitted on 5/11/07. See 40 CFR 52.1490(c)(71)(i)(A)(2).
445B.480 | Test station: Requirements concerning business hours | 9/1/06 | 73 FR 38124 (7/3/08) | Most recently approved version was submitted on 5/11/07. See 40 CFR 52.1490(c)(71)(i)(A)(2).
Nevada Administrative Code, Chapter 445B, Air Controls, Emissions From Engines—Inspectors
445B.485 | Prerequisites to licensing | 2/23/06 | 73 FR 38124 (7/3/08) | Most recently approved version was submitted on 5/11/07. See 40 CFR 52.1490(c)(71)(i)(A)(2).
445B.486 | Examination of applicants for licensing | 2/23/06 | 73 FR 38124 (7/3/08) | Most recently approved version was submitted on 5/11/07. See 40 CFR 52.1490(c)(71)(i)(A)(2).
445B.487 | Denial of license | 9/13/95 | 73 FR 38124 (7/3/08) | Most recently approved version was submitted on 5/11/07. See 40 CFR 52.1490(c)(71)(i)(A)(2).
445B.489 | Grounds for denial, suspension or revocation of license | 2/23/06 | 73 FR 38124 (7/3/08) | Most recently approved version was submitted on 5/11/07. See 40 CFR 52.1490(c)(71)(i)(A)(2).
445B.490 | Hearing on suspension or revocation of license | 2/23/06 | 73 FR 38124 (7/3/08) | Most recently approved version was submitted on 5/11/07. See 40 CFR 52.1490(c)(71)(i)(A)(2).
445B.491 | Temporary suspension or refusal to renew license | 1/10/78 | 73 FR 38124 (7/3/08) | Most recently approved version was submitted on 5/11/07. See 40 CFR 52.1490(c)(71)(i)(A)(2).
445B.492 | Duration of suspension; surrender of license | 12/20/79 | 73 FR 38124 (7/3/08) | Most recently approved version was submitted on 5/11/07. See 40 CFR 52.1490(c)(71)(i)(A)(2).
445B.493 | Limitation on reapplication after revocation or denial or license; surrender of revoked license; permanent revocation of license | 2/23/06 | 73 FR 38124 (7/3/08) | Most recently approved version was submitted on 5/11/07. See 40 CFR 52.1490(c)(71)(i)(A)(2).
445B.495 | Contents of license | 9/13/95 | 73 FR 38124 (7/3/08) | Most recently approved version was submitted on 5/11/07. See 40 CFR 52.1490(c)(71)(i)(A)(2).
445B.496 | Expiration of license | 1/1/88 | 73 FR 38124 (7/3/08) | Most recently approved version was submitted on 5/11/07. See 40 CFR 52.1490(c)(71)(i)(A)(2).
445B.497 | Requirements for renewal of license | 2/23/06 | 73 FR 38124 (7/3/08) | Most recently approved version was submitted on 5/11/07. See 40 CFR 52.1490(c)(71)(i)(A)(2).
445B.498 | Performance of emission inspection without license prohibited; expiration of license; license ratings | 2/23/06 | 73 FR 38124 (7/3/08) | Most recently approved version was submitted on 5/11/07. See 40 CFR 52.1490(c)(71)(i)(A)(2).
445B.4983 | Issuance of access code to approved inspector; use of access code and identification number | 2/23/06 | 73 FR 38124 (7/3/08) | Most recently approved version was submitted on 5/11/07. See 40 CFR 52.1490(c)(71)(i)(A)(2).
445B.4985 | Violations | 7/17/03 | 73 FR 38124 (7/3/08) | Most recently approved version was submitted on 5/11/07. See 40 CFR 52.1490(c)(71)(i)(A)(2).
445B.499 | Fees | 7/17/03 | 73 FR 38124 (7/3/08) | Most recently approved version was submitted on 5/11/07. See 40 CFR 52.1490(c)(71)(i)(A)(2).
445B.501 | Report of change in place of employment or termination of employment | 12/20/79 | 73 FR 38124 (7/3/08) | Most recently approved version was submitted on 5/11/07. See 40 CFR 52.1490(c)(71)(i)(A)(2).
445B.502 | Submission of certificate of employment to report change | 9/13/95 | 73 FR 38124 (7/3/08) | Most recently approved version was submitted on 5/11/07. See 40 CFR 52.1490(c)(71)(i)(A)(2).
Nevada Administrative Code, Chapter 445B, Air Controls, Emissions From Engines—Exhaust Gas Analyzers
445B.5049 | Connection to state electronic data transmission system | 9/25/98 | 73 FR 38124 (7/3/08) | Most recently approved version was submitted on 5/11/07. See 40 CFR 52.1490(c)(71)(i)(A)(2).
445B.505 | Availability of list of approved analyzers and their specifications | 7/17/03 | 73 FR 38124 (7/3/08) | Most recently approved version was submitted on 5/11/07. See 40 CFR 52.1490(c)(71)(i)(A)(2).
445B.5052 | Approved analyzer: Use and equipment; deactivation by Department | 6/1/06 | 73 FR 38124 (7/3/08) | Most recently approved version was submitted on 5/11/07. See 40 CFR 52.1490(c)(71)(i)(A)(2).
445B.5055 | Revocation of approval of analyzer | 9/13/95 | 73 FR 38124 (7/3/08) | Most recently approved version was submitted on 5/11/07. See 40 CFR 52.1490(c)(71)(i)(A)(2).
445B.5065 | Manufacturer of approved analyzer: Required warranty | 7/17/03 | 73 FR 38124 (7/3/08) | Most recently approved version was submitted on 5/11/07. See 40 CFR 52.1490(c)(71)(i)(A)(2).
445B.5075 | Manufacturer of approved analyzer: Required services; administrative fine for violations | 7/17/03 | 73 FR 38124 (7/3/08) | Most recently approved version was submitted on 5/11/07. See 40 CFR 52.1490(c)(71)(i)(A)(2).
Nevada Administrative Code, Chapter 445B, Air Controls, Emissions From Engines—Control of Emissions: Generally
445B.575 | Device to control pollution: General requirement; alteration or modification | 3/1/02 | 73 FR 38124 (7/3/08) | Most recently approved version was submitted on 5/11/07. See 40 CFR 52.1490(c)(71)(i)(A)(2).
445B.576 | Vehicles powered by gasoline or diesel fuel: Restrictions on visible emissions and on idling of diesel engines | 10/22/92 | 73 FR 38124 (7/3/08) | Most recently approved version was submitted on 5/11/07. See 40 CFR 52.1490(c)(71)(i)(A)(2).
445B.577 | Devices used on stationary rails: Restrictions on visible emissions | 1/1/88 | 73 FR 38124 (7/3/08) | Most recently approved version was submitted on 5/11/07. See 40 CFR 52.1490(c)(71)(i)(A)(2).
445B.578 | Exceptions to restrictions on visible emissions | 10/22/92 | 73 FR 38124 (7/3/08) | Most recently approved version was submitted on 5/11/07. See 40 CFR 52.1490(c)(71)(i)(A)(2).
445B.579 | Inspection of vehicle: Devices for emission control required | 9/1/06 | 73 FR 38124 (7/3/08) | Most recently approved version was submitted on 5/11/07. See 40 CFR 52.1490(c)(71)(i)(A)(2).
445B.580 | Inspection of vehicle: Procedure for certain vehicles with model year of 1995 or older and heavy-duty vehicles with model year of 1996 or newer | 9/1/06 | 73 FR 38124 (7/3/08) | Most recently approved version was submitted on 5/11/07. See 40 CFR 52.1490(c)(71)(i)(A)(2).
445B.5805 | Inspection of vehicle: Procedure for light-duty vehicles with model year of 1996 or newer | 8/21/02 | 73 FR 38124 (7/3/08) | Most recently approved version was submitted on 5/11/07. See 40 CFR 52.1490(c)(71)(i)(A)(2).
445B.581 | Inspection of vehicle: Place and equipment for performance | 9/1/06 | 73 FR 38124 (7/3/08) | Most recently approved version was submitted on 5/11/07. See 40 CFR 52.1490(c)(71)(i)(A)(2).
445B.5815 | Inspection of vehicle: Certified on-board diagnostic systems | 3/1/02 | 73 FR 38124 (7/3/08) | Most recently approved version was submitted on 5/11/07. See 40 CFR 52.1490(c)(71)(i)(A)(2).
445B.582 | Repair of vehicle; reinspection or testing | 9/13/95 | 73 FR 38124 (7/3/08) | Most recently approved version was submitted on 5/11/07. See 40 CFR 52.1490(c)(71)(i)(A)(2).
445B.583 | Evidence of compliance: Purpose; records | 9/25/98 | 73 FR 38124 (7/3/08) | Most recently approved version was submitted on 5/11/07. See 40 CFR 52.1490(c)(71)(i)(A)(2).
445B.584 | Evidence of compliance: Purchase of vehicle inspection report numbers | 7/17/03 | 73 FR 38124 (7/3/08) | Most recently approved version was submitted on 5/11/07. See 40 CFR 52.1490(c)(71)(i)(A)(2).
445B.585 | Evidence of compliance: Issuance by approved inspector | 9/25/98 | 73 FR 38124 (7/3/08) | Most recently approved version was submitted on 5/11/07. See 40 CFR 52.1490(c)(71)(i)(A)(2).
445B.586 | Evidence of compliance: Return of fee | 9/25/98 | 73 FR 38124 (7/3/08) | Most recently approved version was submitted on 5/11/07. See 40 CFR 52.1490(c)(71)(i)(A)(2).
445B.587 | Test of light-duty motor vehicles powered by diesel engines: Equipment for measurement of smoke opacity | 9/25/98 | 73 FR 38124 (7/3/08) | Most recently approved version was submitted on 5/11/07. See 40 CFR 52.1490(c)(71)(i)(A)(2).
445B.588 | Testing of light-duty motor vehicles powered by diesel engines: List of approved equipment | 7/17/03 | 73 FR 38124 (7/3/08) | Most recently approved version was submitted on 5/11/07. See 40 CFR 52.1490(c)(71)(i)(A)(2).
445B.589 | Testing of light-duty motor vehicles powered by diesel engines: Procedure; certificate of compliance; effect of failure; lack of proper fuel cap | 9/1/06 | 73 FR 38124 (7/3/08) | Most recently approved version was submitted on 5/11/07. See 40 CFR 52.1490(c)(71)(i)(A)(2).
445B.5895 | Dissemination of list of authorized stations | 9/1/06 | 73 FR 38124 (7/3/08) | Most recently approved version was submitted on 5/11/07. See 40 CFR 52.1490(c)(71)(i)(A)(2).
445B.590 | Waiver of standards for emissions | 5/14/98 | 73 FR 38124 (7/3/08) | Most recently approved version was submitted on 5/11/07. See 40 CFR 52.1490(c)(71)(i)(A)(2).
445B.591 | Form for registration of vehicle in area where inspection of vehicle not required | 1/1/88 | 73 FR 38124 (7/3/08) | Most recently approved version was submitted on 5/11/07. See 40 CFR 52.1490(c)(71)(i)(A)(2).
445B.5915 | Requirements for registration of vehicle temporarily being used and maintained in another state | 9/1/06 | 73 FR 38124 (7/3/08) | Most recently approved version was submitted on 5/11/07. See 40 CFR 52.1490(c)(71)(i)(A)(2).
445B.592 | Applicability of certain standards for emissions and other requirements | 10/31/05 | 73 FR 38124 (7/3/08) | Most recently approved version was submitted on 5/11/07. See 40 CFR 52.1490(c)(71)(i)(A)(2).
445B.593 | Evidence of compliance required for certain vehicles based in Clark County | 10/31/05 | 73 FR 38124 (7/3/08) | Most recently approved version was submitted on 5/11/07. See 40 CFR 52.1490(c)(71)(i)(A)(2).
445B.594 | Evidence of compliance required for certain vehicles based in Washoe County | 10/31/05 | 73 FR 38124 (7/3/08) | Most recently approved version was submitted on 5/11/07. See 40 CFR 52.1490(c)(71)(i)(A)(2).
445B.595(1) | Inspections of vehicles owned by State or political subdivisions or operated on federal installations | 9/13/95 | 73 FR 38124 (7/3/08) | Most recently approved version was submitted on 5/11/07. See 40 CFR 52.1490(c)(71)(i)(A)(2). Subsection 2 was not included in the 7/3/08 approval of NAC 445B.595. Certain paragraphs of subsection (2) were approved at 74 FR 3975 (1/22/09).
445B.595(2) (a), (b), and (c) | Inspections of vehicles owned by State or political subdivisions or operated on federal installations | 9/13/95 | 74 FR 3975 (1/22/09) | Most recently approved version was submitted on 5/11/07. See 40 CFR 52.1490(c)(71)(i)(A)(4).
445B.596 | Standards for emissions | 8/21/02 | 73 FR 38124 (7/3/08) | Most recently approved version was submitted on 5/11/07. See 40 CFR 52.1490(c)(71)(i)(A)(2).
445B.598 | Imposition and statement of fee for inspection and testing; listing of stations and fees | 9/13/95 | 73 FR 38124 (7/3/08) | Most recently approved version was submitted on 5/11/07. See 40 CFR 52.1490(c)(71)(i)(A)(2).
445B.599 | Prescription and notice of maximum fees for inspections and testing | 9/25/98 | 73 FR 38124 (7/3/08) | Most recently approved version was submitted on 5/11/07. See 40 CFR 52.1490(c)(71)(i)(A)(2).
445B.600 | Procedure for setting new fee | 9/13/95 | 73 FR 38124 (7/3/08) | Most recently approved version was submitted on 5/11/07. See 40 CFR 52.1490(c)(71)(i)(A)(2).
445B.601 | Concealment of emissions prohibited | 1/10/78 | 73 FR 38124 (7/3/08) | Most recently approved version was submitted on 5/11/07. See 40 CFR 52.1490(c)(71)(i)(A)(2).
Nevada Administrative Code, Chapter 445B, Air Controls, Emissions From Engines—Restored Vehicles
445B.6115 | Exemption of vehicle from certain provisions | 7/27/00 | 73 FR 38124 (7/3/08) | Most recently approved version was submitted on 5/11/07. See 40 CFR 52.1490(c)(71)(i)(A)(2).
445B.6125 | Certification of vehicle for exemption | 3/5/98 | 73 FR 38124 (7/3/08) | Most recently approved version was submitted on 5/11/07. See 40 CFR 52.1490(c)(71)(i)(A)(2).
Nevada Administrative Code, Chapter 445B, Air Controls, Emissions From Engines—Inspection of Test Stations and Approved Inspectors
445B.7015 | Annual and additional inspections | 2/3/05 | 73 FR 38124 (7/3/08) | Most recently approved version was submitted on 5/11/07. See 40 CFR 52.1490(c)(71)(i)(A)(2).
445B.7025 | Alteration of emission control system of vehicle used to conduct inspection | 2/3/05 | 73 FR 38124 (7/3/08) | Most recently approved version was submitted on 5/11/07. See 40 CFR 52.1490(c)(71)(i)(A)(2).
445B.7035 | Preliminary written notice of violation; reinspection of vehicle | 2/3/05 | 73 FR 38124 (7/3/08) | Most recently approved version was submitted on 5/11/07. See 40 CFR 52.1490(c)(71)(i)(A)(2).
445B.7045 | Administrative fines and other penalties for certain violations | 2/3/05 | 73 FR 38124 (7/3/08) | Most recently approved version was submitted on 5/11/07. See 40 CFR 52.1490(c)(71)(i)(A)(2).
Nevada Administrative Code, Chapter 445B, Air Controls, Emissions From Engines—Miscellaneous Provisions
445B.727 | Administrative fines and other penalties | 2/3/05 | 73 FR 38124 (7/3/08) | Most recently approved version was submitted on 5/11/07. See 40 CFR 52.1490(c)(71)(i)(A)(2).
445B.735 | Program for licensure to install, repair and adjust devices for control of emissions | 9/25/98 | 73 FR 38124 (7/3/08) | Most recently approved version was submitted on 5/11/07. See 40 CFR 52.1490(c)(71)(i)(A)(2).
Nevada Administrative Code, Chapter 590, Petroleum Products and Antifreeze, Fuels
590.065 (excluding subsection (7)) | Adopted Regulation of the State Board of Agriculture LCB File No. R111-08. A regulation relating to fuel; adopting by reference a certain standard for gasoline published by ASTM International; providing exceptions; and providing other matters properly relating thereto | 1/28/10 | 75 FR 59090 (9/27/10) | See 40 CFR 52.1490(c)(74)(i)(B). As adopted by the Nevada Board of Agriculture. Submitted on 3/26/10 for inclusion into Appendix C of the 2008 Las Vegas Valley CO Maintenance Plan.

Table 2—EPA-Approved Lander County Regulations
County citation | Title/Subject | County effective date | EPA Approval date | Additional explanation
Lander County Ordinance LC 8-78 | Dust Ordinance | 9/8/78 | 46 FR 21758 (4/14/81) | Was approved as part of the Lander County Air Quality Improvement Plan which was submitted on 12/29/78.

Table 3—EPA-Approved Clark County Regulations
County citation | Title/Subject | County effective date | EPA Approval date | Additional explanation
Section 0 | Definitions | 3/20/12 | 77 FR 64039 (10/18/12) | Submitted on 5/22/12.
Section 1 (“Definitions”): Subsection 1.1 | Affected Facility | 12/28/78 | 46 FR 21758 (4/14/81) | Submitted on 9/18/79. See 40 CFR 52/1490(c)(17)(i).
Section 1 (“Definitions”): Subsection 1.6 | Air Pollution Control Committee | 12/28/78 | 46 FR 21758 (4/14/81) | Submitted on 9/18/79. See 40 CFR 52/1490(c)(17)(i).
Section 1 (“Definitions”): Subsection 1.11 | Area Source | 12/28/78 | 46 FR 21758 (4/14/81) | Submitted on 9/18/79. See 40 CFR 52/1490(c)(17)(i).
Section 1 (“Definitions”): Subsection 1.12 | Atmosphere | 12/28/78 | 46 FR 21758 (4/14/81) | Submitted on 9/18/79. See 40 CFR 52/1490(c)(17)(i).
Section 1 (“Definitions”): Subsection 1.16 | Board | 12/28/78 | 46 FR 21758 (4/14/81) | Submitted on 9/18/79. See 40 CFR 52/1490(c)(17)(i).
Section 1 (“Definitions”): Subsection 1.23 | Commercial Off-Road Vehicle Racing | 12/28/78 | 46 FR 21758 (4/14/81) | Submitted on 9/18/79. See 40 CFR 52/1490(c)(17)(i).
Section 1 (“Definitions”): Subsection 1.26 | Dust | 12/28/78 | 46 FR 21758 (4/14/81) | Submitted on 9/18/79. See 40 CFR 52/1490(c)(17)(i).
Section 1 (“Definitions”): Subsection 1.28 | Existing Facility | 12/28/78 | 46 FR 21758 (4/14/81) | Submitted on 9/18/79. See 40 CFR 52/1490(c)(17)(i).
Section 1 (“Definitions”): Subsection 1.29 | Existing Gasoline Station | 12/28/78 | 46 FR 21758 (4/14/81) | Submitted on 9/18/79. See 40 CFR 52/1490(c)(17)(i).
Section 1 (“Definitions”): Subsection 1.30 | Fixed Capital Cost | 12/28/78 | 46 FR 21758 (4/14/81) | Submitted on 9/18/79. See 40 CFR 52/1490(c)(17)(i).
Section 1 (“Definitions”): Subsection 1.36 | Fumes | 12/28/78 | 46 FR 21758 (4/14/81) | Submitted on 9/18/79. See 40 CFR 52/1490(c)(17)(i).
Section 1 (“Definitions”): Subsection 1.40 | Health District | 12/28/78 | 46 FR 21758 (4/14/81) | Submitted on 9/18/79. See 40 CFR 52/1490(c)(17)(i).
Section 1 (“Definitions”): Subsection 1.41 | Hearing Board | 12/28/78 | 46 FR 21758 (4/14/81) | Submitted on 9/18/79. See 40 CFR 52/1490(c)(17)(i).
Section 1 (“Definitions”): Subsection 1.44 | Integrated Sampling | 12/28/78 | 46 FR 21758 (4/14/81) | Submitted on 9/18/79. See 40 CFR 52/1490(c)(17)(i).
Section 1 (“Definitions”): Subsection 1.51 | Mist | 12/28/78 | 46 FR 21758 (4/14/81) | Submitted on 9/18/79. See 40 CFR 52/1490(c)(17)(i).
Section 1 (“Definitions”): Subsection 1.57 | New Gasoline Station | 9/3/81 | 47 FR 26620 (6/21/82) | Submitted on 11/17/81. See 40 CFR 52/1490(c)(24)(iii).
Section 1 (“Definitions”): Subsection 1.58 | New Source | 12/28/78 | 46 FR 21758 (4/14/81) | Submitted on 9/18/79. See 40 CFR 52/1490(c)(17)(i).
Section 1 (“Definitions”): Subsection 1.60 | NIC | 12/28/78 | 46 FR 21758 (4/14/81) | Submitted on 9/18/79. See 40 CFR 52/1490(c)(17)(i).
Section 1 (“Definitions”): Subsection 1.70 | Point Source | 12/28/78 | 46 FR 21758 (4/14/81) | Submitted on 9/18/79. See 40 CFR 52/1490(c)(17)(i).
Section 1 (“Definitions”): Subsection 1.81 | Single Source | 12/28/78 | 46 FR 21758 (4/14/81) | Submitted on 9/18/79. See 40 CFR 52/1490(c)(17)(i).
Section 1 (“Definitions”): Subsection 1.83 | Smoke | 12/28/78 | 46 FR 21758 (4/14/81) | Submitted on 9/18/79. See 40 CFR 52/1490(c)(17)(i).
Section 1 (“Definitions”): Subsection 1.84 | Source of Air Contaminant | 12/28/78 | 46 FR 21758 (4/14/81) | Submitted on 9/18/79. See 40 CFR 52/1490(c)(17)(i).
Section 1 (“Definitions”): Subsection 1.87 | Standard Commercial Equipment | 12/28/78 | 46 FR 21758 (4/14/81) | Submitted on 9/18/79. See 40 CFR 52/1490(c)(17)(i).
Section 1 (“Definitions”): Subsection 1.88 | Standard Conditions | 12/28/78 | 46 FR 21758 (4/14/81) | Submitted on 9/18/79. See 40 CFR 52/1490(c)(17)(i).
Section 1 (“Definitions”): Subsection 1.91 | Stop Order | 12/28/78 | 46 FR 21758 (4/14/81) | Submitted on 9/18/79. See 40 CFR 52/1490(c)(17)(i).
Section 1 (“Definitions”): Subsection 1.95 | Uncombined Water | 12/28/78 | 46 FR 21758 (4/14/81) | Submitted on 9/18/79. See 40 CFR 52/1490(c)(17)(i).
Section 1 (“Definitions”): Subsection 1.97 | Vapor Disposal System | 12/28/78 | 46 FR 21758 (4/14/81) | Submitted on 9/18/79. See 40 CFR 52/1490(c)(17)(i).
Section 2: Subsections 2.1, 2.2, and 2.3 | Air Pollution Control Board | 12/28/78 | 46 FR 43141 (8/27/81) | Submitted on 7/24/79. See 40 CFR 52.1490(c)(16)(viii).
Section 4: Subsections 4.1-4.11 (excluding subsection 4.7.3) | Control Officer | 12/28/78 | 46 FR 43141 (8/27/81) | Submitted on 7/24/79. See 40 CFR 52.1490(c)(16)(viii). Subsection 4.7.3, submitted on 7/24/79, was superseded by approval of amended provision at 47 FR 26386 (6/18/82).
Section 4 (Control Officer): Subsection 4.7.3 | [related to authority of control officer] | 9/3/81 | 47 FR 26386 (6/18/82) | Submitted on 11/17/81. See 40 CFR 52.1490(c)(24)(iv).
Section 4 (Control Officer): Subsections 4.12, 4.12.1-4.12.3 | [related to public notification] | 4/24/80 | 46 FR 43141 (8/27/81) | Submitted on 11/5/80. See 40 CFR 52.1490(c)(22)(i).
Section 5: Subsection 5.1 | Interference with Control Officer | 12/28/78 | 46 FR 43141 (8/27/81) | Submitted on 7/24/79. See 40 CFR 52.1490(c)(16)(viii).
Section 6: Subsection 6.1 | Injunctive Relief | 12/28/78 | 46 FR 43141 (8/27/81) | Submitted on 7/24/79. See 40 CFR 52.1490(c)(16)(viii).
Section 8: Subsections 8.1, 8.2 | Persons Liable for Penalties—Punishment; Defense | 12/28/78 | 46 FR 43141 (8/27/81) | Submitted on 7/24/79. See 40 CFR 52.1490(c)(16)(viii).
Section 10 | Compliance Schedules | 12/28/78 | 46 FR 43141 (8/27/81) | Submitted on 7/24/79. See 40 CFR 52.1490(c)(16)(viii).
Section 11 | Ambient Air Quality Standards | 10/21/03 | 69 FR 54006 (9/7/04) | Adopted on 10/7/03 and submitted on 10/23/03. See 40 CFR 52.1490(c)(53)(i)(A)(1).
Section 12.0 | Applicability, General Requirements and Transition Procedures | 11/3/09 | 77 FR 64039 (10/18/12) | Submitted on 2/11/10.
Section 12.1 | Permit Requirements for Minor Sources | 11/3/09 | 77 FR 64039 (10/18/12) | Submitted on 2/11/10.
Section 12.2 | Permit Requirements for Major Sources in Attainment Areas (Prevention of Significant Deterioration) | 3/20/12 | 77 FR 64039 (10/18/12) | Submitted on 5/22/12.
Section 12.3 | Permit Requirements for Major Sources in Nonattainment Areas | 5/18/10 | 77 FR 64039 (10/18/12) | Submitted on 9/1/10.
Section 12.4 | Authority to Construct Application and Permit Requirements for Part 70 Sources | 5/18/10 | 77 FR 64039 (10/18/12) | Submitted on 9/1/10.
Section 18: Subsections 18.1-18.5.2 | Registration/Permit Fees | 9/3/81 | 47 FR 26386 (6/18/82) | Submitted on 11/17/81. See 40 CFR 52.1490(c)(24)(iv).
Section 18: Subsections 18.6-18.12 | Registration/Permit Fees | 12/28/78 | 46 FR 43141 (8/27/81) | Submitted on 7/24/79. See 40 CFR 52.1490(c)(16)(viii).
Section 23: Subsections 23.1-23.5 (excluding subsections 23.2.1-23.3.1.2, 23.3.4-23.3.5) | Continuous Monitoring by Fossil Fuel-Fired Steam Generators | 12/28/78 | 46 FR 43141 (8/27/81) | Submitted on 7/24/79. See 40 CFR 52.1490(c)(16)(viii). Subsections 23.2.1-23.3.1.2, 23.3.4-23.3.5, submitted on 7/24/79, were superseded by revised subsections submitted on 11/17/81 and approved at 47 FR 26386 (6/18/82).
Section 23 (Continuous Monitoring by Fossil Fuel-Fired Steam Generators): Subsections 23.2.1-23.3.1.2, 23.3.4-23.3.5) | [related to specifications for continuous monitoring] | 9/3/81 | 47 FR 26386 (6/18/82) | Submitted on 11/17/81. See 40 CFR 52.1490(c)(24)(iv).
Section 24: Subsections 24.1-24.5 | Sampling and Testing—Records and Reports | 12/28/78 | 46 FR 43141 (8/27/81) | Submitted on 7/24/79. See 40 CFR 52.1490(c)(16)(viii).
Section 25: Subsection 25.2 | Upset, Breakdown or Scheduled Maintenance | 12/28/78 | 46 FR 43141 (8/27/81) | Submitted on 7/24/79. See 40 CFR 52.1490(c)(16)(viii). Subsection 25.1, submitted on 7/24/79, was never approved into the SIP; see 40 CFR 52.1483 and 69 FR 54006, at 54017, 54018 (9/7/04).
Section 26: Subsections 26.1-26.3 | Emission of Visible Air Contaminants | 12/28/78 | 46 FR 43141 (8/27/81) | Submitted on 7/24/79. See 40 CFR 52.1490(c)(16)(viii).
Section 27 | Particulate Matter from Process Weight Rate | 9/3/81 | 47 FR 26386 (6/18/82) | Submitted on 11/17/81. See 40 CFR 52.1490(c)(24)(iv).
Section 28: Subsections 28.1 and 28.2 | Fuel Burning Equipment | 12/28/78 | 46 FR 43141 (8/27/81) | Submitted on 7/24/79. See 40 CFR 52.1490(c)(16)(viii).
Section 29 | Sulfur Contents of Fuel Oil | 12/28/78 | 46 FR 43141 (8/27/81) | Submitted on 7/24/79. See 40 CFR 52.1490(c)(16)(viii).
Section 30: Subsections 30.1-30.7 (excluding subsection 30.4) | Incinerators | 12/28/78 | 46 FR 43141 (8/27/81) | Submitted on 7/24/79. See 40 CFR 52.1490(c)(16)(viii). Subsection 30.4 was superseded by amended version submitted on 11/17/81 and approved at 47 FR 26386 (6/18/82).
Section 30 (Incinerators): Subsection 30.4 | [exemptions for certain types of incinerators] | 9/3/81 | 47 FR 26386 (6/18/82) | Submitted on 11/17/81. See 40 CFR 52.1490(c)(24)(iv).
Section 30 (Incinerators): Subsection 30.8 | [related to maximum allowable emission rates] | 9/3/81 | 47 FR 26386 (6/18/82) | Submitted on 11/17/81. See 40 CFR 52.1490(c)(24)(iv).
Section 31 | Reduction of Emission of Sulfur from Primary Non-Ferrous Smelters | 12/28/78 | 46 FR 43141 (8/27/81) | Submitted on 7/24/79. See 40 CFR 52.1490(c)(16)(viii).
Section 32: Subsections 32.1, 32.2 | Reduction of Animal Matter | 12/28/78 | 46 FR 43141 (8/27/81) | Submitted on 7/24/79. See 40 CFR 52.1490(c)(16)(viii).
Section 33 | Chlorine in Chemical Processes | 5/18/84 | 51 FR 29923 (8/21/86) | Submitted on 1/11/85. See 40 CFR 52.1490(c)(i)(A). See also clarification at 69 FR 54006 (9/7/04.
Section 41: Subsections 41.1-41.4 | Fugitive Dust | 12/28/78 | 46 FR 43141 (8/27/81) | Submitted on 7/24/79. See 40 CFR 52.1490(c)(16)(viii).
Section 42: Subsections 42.1, 42.3 and 42.4 | Open Burning | 12/28/78 | 46 FR 43141 (8/27/81) | Submitted on 7/24/79. See 40 CFR 52.1490(c)(16)(viii). Subsection 42.2 deleted without replacement—see 40 CFR 52.1490(c)(16)(viii)(C).
Section 50 | Storage of Petroleum Products | 12/28/78 | 46 FR 21758 (4/14/81) | Submitted on 7/24/79. See 40 CFR 52.1490(c)(16)(ii).
Section 51 | Petroleum Product Loading into Tank Trucks and Trailers | 12/28/78 | 46 FR 21758 (4/14/81) | Submitted on 7/24/79. See 40 CFR 52.1490(c)(16)(ii).
Section 52: Subsections 52.1-52.10 (excluding subsections 52.4.2.3 and 52.7.2) | Handling of Gasoline at Service Stations, Airports and Storage Tanks | 12/28/78 | 46 FR 21758 (4/14/81) | Submitted on 7/24/79. See 40 CFR 52.1490(c)(16)(ii). Subsections 52.4.2.3 and 52.7.2 were superseded by amended provisions submitted on 11/17/81 and approved at 47 FR 26386 (6/18/82).
Section 52 (Handling of Gasoline at Service Stations, Airports and Storage Tanks): Subsections 52.4.2.3 and 52.7.2 | [related to vapor recovery and sales information] | 9/3/81 | 47 FR 26386 (6/18/82) | Submitted on 11/17/81. See 40 CFR 52.1490(c)(24)(iv).
Section 53 | Oxygenated Wintertime Gasoline | 6/3/03 | 69 FR 56351 (9/21/04) | Submitted on 11/10/03. See 40 CFR 52.1490(c)(52)(i)(A)(1). Superseded earlier version adopted on 9/25/97, submitted on 8/7/98, and approved at 64 FR 29573 (6/2/99).
Ordinance No. 3809 | An Ordinance to Suspend the Applicability and Enforceability of All Provisions of Clark County Air Quality Regulation Section 54, the Cleaner Burning Gasoline Wintertime Program; and Provide for Other Matters Properly Relating Thereto | 9/29/09 | 75 FR 59090 (9/27/10) | See 40 CFR 52.1490(c)(74)(i)(A). Section 54 was suspended by the Clark County Board of County Commissioners through adoption of Ordinance No. 3809 on September 15, 2009. Submitted on 3/26/10 for inclusion into Appendix C of the 2008 Las Vegas Valley CO Maintenance Plan.
Section 60 (excluding subsections 60.4.2 and 60.4.3) | Evaporation and Leakage | 6/28/79 | 46 FR 21758 (4/14/81) | Submitted on 9/18/79. See 40 CFR 52.1490(c)(17)(i). Subsections 60.4.2 and 60.4.3 were superseded by approval of amended provisions at 49 FR 10259 (3/20/84) and 47 FR 26386 (6/18/82).
Section 60: Subsection 60.4.2 | [General prohibition on use of cutback asphalt] | 9/3/81 | 49 FR 10259 (3/20/84) | Submitted on 11/17/81. See 40 CFR 52.1490(c)(24)(vi).
Section 60: Subsection 60.4.3 | [Exceptions to subsection 60.4.2] | 9/3/81 | 47 FR 26386 (6/18/82) | Submitted on 11/17/81. See 40 CFR 52.1490(c)(24)(iv).
Section 70: subsections 70.1-70.6 | Emergency Procedures | 12/28/78 | 46 FR 43141 (8/27/81) | Submitted on 7/24/79. See 40 CFR 52.1490(c)(16)(viii).
Section 80 | Circumvention | 12/28/78 | 46 FR 43141 (8/27/81) | Submitted on 7/24/79. See 40 CFR 52.1490(c)(16)(viii).
Section 81 | Provisions of Regulations Severable | 12/28/78 | 46 FR 43141 (8/27/81) | Submitted on 7/24/79. See 40 CFR 52.1490(c)(16)(viii).
Section 90 | Fugitive Dust from Open Areas and Vacant Lots | 12/17/02 | 71 FR 63250 (10/30/06) | Originally adopted on 6/22/00, and amended on 12/17/02. Submitted on 1/23/03. See 40 CFR 52.1490(c)(60)(i)(A)(1). Supersedes earlier version of rule approved at 69 FR 32273 (6/9/04).
Section 91 | Fugitive Dust from Unpaved Roads, Unpaved Alleys and Unpaved Easement Roads | 11/20/01 | 69 FR 32273 (6/9/04) | Originally adopted on 6/22/00 and amended on 11/20/01. Submitted on 10/24/02. See 40 CFR 52.1490(c)(43)(i)(A)(1).
Section 92 | Fugitive Dust from Unpaved Parking Lots, Material Handling & Storage Yards, & Vehicle & Equipment Storage Yards | 12/17/02 | 71 FR 63250 (10/30/06) | Originally adopted on 6/22/00, and amended on 12/17/02. Submitted on 1/23/03. See 40 CFR 52.1490(c)(60)(i)(A)(1). Supersedes earlier version of rule approved at 69 FR 32273 (6/9/04).
Section 93 | Fugitive Dust from Paved Roads & Street Sweeping Equipment | 3/4/03 (amended) | 71 FR 63250 (10/30/06) | Originally adopted on 6/22/00, amendments adopted on 3/4/03 made effective 3/18/03. Submitted on 3/26/03. See 40 CFR 52.1490(c)(61)(i)(A)(1). Supersedes earlier version of rule approved at 69 FR 32273 (6/9/04).
Section 94 | Permitting & Dust Control for Construction Activities | 3/18/03 (amended) | 71 FR 63250 (10/30/06) | Originally adopted on 6/22/00, amendments adopted on 3/18/03 made effective 4/1/03. Submitted on 3/26/03. See 40 CFR 52.1490(c)(61)(i)(A)(1). Supersedes earlier version of rule approved at 69 FR 32273 (6/9/04).
Section 94 Handbook | Construction Activities Dust Control Handbook | 4/1/03 | 71 FR 63250 (10/30/06) | Originally adopted on 6/22/00, and amended on 3/18/03. Submitted on 3/26/03. See 40 CFR 52.1490(c)(61)(i)(A)(1). Supersedes earlier version of rule approved at 69 FR 32273 (6/9/04).
Clark County Building Code, Section 3708 | Residential Wood Combustion Ordinance (Fireplace), No. 1249 | 12/4/90 | 68 FR 52838 (9/8/03) | Adopted on 11/20/90, and submitted on 11/19/02. See 40 CFR 52.1490(c)(41)(i)(A)(1).

Table 4—EPA-Approved City of Las Vegas Regulations
City citation | Title/Subject | City effective date | EPA Approval date | Additional explanation
City of Las Vegas Building Code, Section 3708 | Residential Wood Combustion Ordinance (Fireplace), No. 3538 | 11/21/90 | 68 FR 52838 (9/8/03) | Adopted on 11/21/90, and submitted on 11/19/02. See 40 CFR 52.1490(c)(41)(i)(A)(2).

Table 5—EPA-Approved City of North Las Vegas Regulations
City citation | Title/Subject | City effective date | EPA Approval date | Additional explanation
City of North Las Vegas Building Code, Section 13.16.150 | Residential Wood Combustion Ordinance (Fireplace), No. 1020 | 9/18/91 | 68 FR 52838 (9/8/03) | Adopted on 9/18/91, and submitted on 11/19/02. See 40 CFR 52.1490(c)(41)(i)(A)(3).

Table 6—EPA-Approved City of Henderson Regulations
City citation | Title/Subject | City effective date | EPA Approval date | Additional explanation
City of Henderson Building Code, Section 15.40.010 | Residential Wood Combustion Ordinance (Fireplace), No. 1697 | 10/15/96 | 68 FR 52838 (9/8/03) | Adopted on 10/15/96, and submitted on 11/19/02. See 40 CFR 52.1490(c)(41)(i)(A)(4).

Table 7—EPA-Approved Washoe County Regulations
District citation | Title/Subject | District effective date | EPA Approval date | Additional explanation
GENERAL DEFINITIONS
010.000 | Definitions | 2/1/72 | 37 FR 15080 (7/27/72) | Submitted on 6/12/72. See 40 CFR 52.1490(c)(2).
010.005 | Air Contaminant | 2/1/72 | 37 FR 15080 (7/27/72) | Submitted on 6/12/72. See 40 CFR 52.1490(c)(2).
010.010 | Air Pollution | 2/1/72 | 37 FR 15080 (7/27/72) | Submitted on 6/12/72. See 40 CFR 52.1490(c)(2).
010.011 | Allowable emissions | 5/23/79 (adopted) | 46 FR 21758 (4/14/81) | Submitted on 7/24/79. See 40 CFR 52.1490(c)(16)(iii).
010.014 | Asphalt | 5/23/79 (adopted) | 46 FR 21758 (4/14/81). | Submitted on 7/24/79. See 40 CFR 52.1490(c)(16)(iii).
010.015 | Atmosphere | 2/1/72 | 37 FR 15080 (7/27/72) | Submitted on 6/12/72. See 40 CFR 52.1490(c)(2).
010.020 | Board of Health | 2/1/72 | 37 FR 15080 (7/27/72) | Submitted on 6/12/72. See 40 CFR 52.1490(c)(2).
010.025 | BTU-British Thermal Unit | 2/1/72 | 37 FR 15080 (7/27/72) | Submitted on 6/12/72. See 40 CFR 52.1490(c)(2).
010.028 | Cold Cleaner | 1/24/79 (adopted) | 46 FR 21758 (4/14/81) | Submitted on 7/24/79. See 40 CFR 52.1490(c)(16)(iii).
010.030 | Combustion Contaminants | 2/1/72 | 37 FR 15080 (7/27/72) | Submitted on 6/12/72. See 40 CFR 52.1490(c)(2).
010.035 | Combustible Refuse | 2/1/72 | 37 FR 15080 (7/27/72) | Submitted on 6/12/72. See 40 CFR 52.1490(c)(2).
010.040 | Commercial Fuel Oil | 2/1/72 | 37 FR 15080 (7/27/72) | Submitted on 6/12/72. See 40 CFR 52.1490(c)(2).
010.045 | Condensed Fumes | 2/1/72 | 37 FR 15080 (7/27/72) | Submitted on 6/12/72. See 40 CFR 52.1490(c)(2).
010.050 | Control Equipment | 2/1/72 | 37 FR 15080 (7/27/72) | Submitted on 6/12/72. See 40 CFR 52.1490(c)(2).
010.055 | Control Officer | 2/1/72 | 37 FR 15080 (7/27/72) | Submitted on 6/12/72. See 40 CFR 52.1490(c)(2).
010.057 | Conveyorized Degreaser | 1/24/79 (adopted) | 46 FR 21758 (4/14/81) | Submitted on 7/24/79. See 40 CFR 52.1490(c)(16)(iii).
010.059 | Cut-back Asphalt | 5/23/79 (adopted) | 46 FR 21758 (4/14/81) | Submitted on 7/24/79. See 40 CFR 52.1490(c)(16)(iii).
010.060 | District Health Officer | 2/1/72 | 37 FR 15080 (7/27/72) | Submitted on 6/12/72. See 40 CFR 52.1490(c)(2).
010.065 | Dusts | 2/1/72 | 37 FR 15080 (7/27/72) | Submitted on 6/12/72. See 40 CFR 52.1490(c)(2).
010.070 | Emission | 2/1/72 | 37 FR 15080 (7/27/72) | Submitted on 6/12/72. See 40 CFR 52.1490(c)(2).
010.071 | Freeboard height | 1/24/79 (adopted) | 46 FR 21758 (4/14/81) | Submitted on 7/24/79. See 40 CFR 52.1490(c)(16)(iii).
010.072 | Freeboard ratio | 1/24/79 (adopted) | 46 FR 21758 (4/14/81) | Submitted on 7/24/79. See 40 CFR 52.1490(c)(16)(iii).
010.075 | Fuel | 2/1/72 | 37 FR 15080 (7/27/72) | Submitted on 6/12/72. See 40 CFR 52.1490(c)(2).
010.080 | Fuel Burning Equipment | 2/1/72 | 37 FR 15080 (7/27/72) | Submitted on 6/12/72. See 40 CFR 52.1490(c)(2).
010.085 | Garbage | 2/1/72 | 37 FR 15080 (7/27/72) | Submitted on 6/12/72. See 40 CFR 52.1490(c)(2).
010.090 | Gas | 2/1/72 | 37 FR 15080 (7/27/72) | Submitted on 6/12/72. See 40 CFR 52.1490(c)(2).
010.091 | Gasoline | 1/24/79 (adopted) | 46 FR 21758 (4/14/81) | Submitted on 7/24/79. See 40 CFR 52.1490(c)(16)(iii).
010.095 | Health District | 2/1/72 | 37 FR 15080 (7/27/72) | Submitted on 6/12/72. See 40 CFR 52.1490(c)(2).
010.100 | Hearing Board | 2/1/72 | 37 FR 15080 (7/27/72) | Submitted on 6/12/72. See 40 CFR 52.1490(c)(2).
010.105 | Incinerator | 2/1/72 | 37 FR 15080 (7/27/72) | Submitted on 6/12/72. See 40 CFR 52.1490(c)(2).
010.106 | Lowest Achievable Emission Rate | 5/23/79 (adopted) | 46 FR 21758 (4/14/81) | Submitted on 7/24/79. See 40 CFR 52.1490(c)(16)(iii).
010.107B | Major Emitting Facility Or Major Stationary Source (Nonattainment Areas) | 5/23/79 (adopted) | 46 FR 21758 (4/14/81) | Submitted on 4/24/79. See 40 CFR 52.1490(c)(16)(iii).
010.108 | Major Modification | 5/23/79 (adopted) | 46 FR 21758 (4/14/81) | Submitted on 4/24/79. See 40 CFR 52.1490(c)(16)(iii).
010.110 | Mist | 2/1/72 | 37 FR 15080 (7/27/72) | Submitted on 6/12/72. See 40 CFR 52.1490(c)(2).
010.116 | Non Attainment Area | 5/23/79 (adopted) | 46 FR 21758 (4/14/81) | Submitted on 4/24/79. See 40 CFR 52.1490(c)(16)(iii).
010.117 | Non Attainment Pollutant | 5/23/79 (adopted) | 46 FR 21758 (4/14/81) | Submitted on 4/24/79. See 40 CFR 52.1490(c)(16)(iii).
010.120 | Nuisance | 2/1/72 | 37 FR 15080 (7/27/72) | Submitted on 6/12/72. See 40 CFR 52.1490(c)(2).
010.125 | Odor | 2/1/72 | 37 FR 15080 (7/27/72) | Submitted on 6/12/72. See 40 CFR 52.1490(c)(2).
010.130 | Opacity | 2/1/72 | 37 FR 15080 (7/27/72) | Submitted on 6/12/72. See 40 CFR 52.1490(c)(2).
010.135 | Open Fire | 2/1/72 | 37 FR 15080 (7/27/72) | Submitted on 6/12/72. See 40 CFR 52.1490(c)(2).
010.136 | Open Top Vapor Degreaser | 1/24/79 (adopted) | 46 FR 21758 (4/14/81) | Submitted on 4/24/79. See 40 CFR 52.1490(c)(16)(iii).
010.140 | Particulate Matter | 2/1/72 | 37 FR 15080 (7/27/72) | Submitted on 6/12/72. See 40 CFR 52.1490(c)(2).
010.145 | Pathological Waste | 2/1/72 | 37 FR 15080 (7/27/72) | Submitted on 6/12/72. See 40 CFR 52.1490(c)(2).
010.117 | Pellet Stove | 2/23/06 | 72 FR 33397 (6/18/07) | Submitted on 5/5/06. See 40 CFR 52.1490(c)(63)(i)(A)(1).
010.148 | Penetrating Prime Coat | 5/23/79 (adopted) | 46 FR 21758 (4/14/81) | Submitted on 4/24/79. See 40 CFR 52.1490(c)(16)(iii).
010.149 | Penetrating Seal Coat | 5/23/79 (adopted) | 46 FR 21758 (4/14/81) | Submitted on 4/24/79. See 40 CFR 52.1490(c)(16)(iii).
010.150 | Person | 2/1/72 | 37 FR 15080 (7/27/72) | Submitted on 6/12/72. See 40 CFR 52.1490(c)(2).
010.151 | Potential to Emit | 5/23/79 (adopted) | 46 FR 21758 (4/14/81) | Submitted on 4/24/79. See 40 CFR 52.1490(c)(16)(iii).
010.155 | Process Weight | 2/1/72 | 37 FR 15080 (7/27/72) | Submitted on 6/12/72. See 40 CFR 52.1490(c)(2).
010.160 | Process Weight Rate | 2/1/72 | 37 FR 15080 (7/27/72) | Submitted on 6/12/72. See 40 CFR 52.1490(c)(2).
010.165 | Ringelmann Chart | 2/1/72 | 37 FR 15080 (7/27/72) | Submitted on 6/12/72. See 40 CFR 52.1490(c)(2).
010.166 | Significant Ambient Impact | 5/23/79 (adopted) | 46 FR 21758 (4/14/81) | Submitted on 4/24/79. See 40 CFR 52.1490(c)(16)(iii).
010.170 | Smoke | 2/1/72 | 37 FR 15080 (7/27/72) | Submitted on 6/12/72. See 40 CFR 52.1490(c)(2).
010.175 | Source | 2/1/72 | 37 FR 15080 (7/27/72) | Submitted on 6/12/72. See 40 CFR 52.1490(c)(2).
010.1751 | Source Registration | 5/23/79 (adopted) | 46 FR 21758 (4/14/81) | Submitted on 4/24/79. See 40 CFR 52.1490(c)(16)(iii).
010.180 | Stack or Chimney | 2/1/72 | 37 FR 15080 (7/27/72) | Submitted on 6/12/72. See 40 CFR 52.1490(c)(2).
010.185 | Standard Conditions | 2/1/72 | 37 FR 15080 (7/27/72) | Submitted on 6/12/72. See 40 CFR 52.1490(c)(2).
010.197 | Volatile Organic Compound | 1/24/79 (adopted) | 46 FR 21758 (4/14/81) | Submitted on 4/24/79. See 40 CFR 52.1490(c)(16)(iii).
GENERAL PROVISIONS
020.005 | Board of Health-Powers and Duties | 2/1/72 | 37 FR 15080 (7/27/72) | Submitted on 6/12/72. See 40 CFR 52.1490(c)(2).
020.010 | Injunctive Relief | 2/1/72 | 37 FR 15080 (7/27/72) | Submitted on 6/12/72. See 40 CFR 52.1490(c)(2).
020.015 | Judicial Relief | 2/1/72 | 37 FR 15080 (7/27/72) | Submitted on 6/12/72. See 40 CFR 52.1490(c)(2).
020.025 | Control Officer-Powers and Duties | 2/1/72 | 37 FR 15080 (7/27/72) | Submitted on 6/12/72. See 40 CFR 52.1490(c)(2).
020.035 | Violations of Regulations | 2/1/72 | 37 FR 15080 (7/27/72) | Submitted on 6/12/72. See 40 CFR 52.1490(c)(2).
020.040 | Notice of Violation | 2/1/72 | 37 FR 15080 (7/27/72) | Submitted on 6/12/72. See 40 CFR 52.1490(c)(2).
020.045 | Citation | 2/1/72 | 37 FR 15080 (7/27/72) | Submitted on 6/12/72. See 40 CFR 52.1490(c)(2).
020.050 | Administrative Fines | 2/1/72 | 37 FR 15080 (7/27/72) | Submitted on 6/12/72. See 40 CFR 52.1490(c)(2).
020.055 | Injunctive Relief | 2/1/72 | 37 FR 15080 (7/27/72) | Submitted on 6/12/72. See 40 CFR 52.1490(c)(2).
020.055 | Confidential information | 1/24/79 (adopted) | 46 FR 43141 (8/27/81) | Submitted on 7/24/79. See 40 CFR 52.1490(c)(16)(ix).
020.060 | Interference with Performance of Duty | 2/1/72 | 37 FR 15080 (7/27/72) | Submitted on 6/12/72. See 40 CFR 52.1490(c)(2).
020.070 | Sampling and Testing | 2/1/72 | 37 FR 15080 (7/27/72) | Submitted on 6/12/72. See 40 CFR 52.1490(c)(2).
020.080 | Circumvention | 2/1/72 | 37 FR 15080 (7/27/72) | Submitted on 6/12/72. See 40 CFR 52.1490(c)(2).
020.085 | Upset, Breakdown or Scheduled Maintenance | 2/1/72 | 37 FR 15080 (7/27/72) | Submitted on 6/12/72. See 40 CFR 52.1490(c)(2).
020.090 | Registration of Sources | 2/1/72 | 37 FR 15080 (7/27/72) | Submitted on 6/12/72. See 40 CFR 52.1490(c)(2).
020.095 | Severability | 2/1/72 | 37 FR 15080 (7/27/72) | Submitted on 6/12/72. See 40 CFR 52.1490(c)(2).
SOURCE REGISTRATION AND OPERATION
030.000 | Sources—General | 5/23/79 (adopted) | 46 FR 21758 (4/14/81) | Submitted on 7/24/79. See 40 CFR 52.1490(c)(16)(iii).
030.005 | [Authority to Construct must be issued before any building permit] | 5/23/79 (adopted) | 46 FR 21758 (4/14/81) | Submitted on 7/24/79. See 40 CFR 52.1490(c)(16)(iii).
030.010 | [Limits on Issuance of Authorities to Construct] | 5/23/79 (adopted) | 46 FR 21758 (4/14/81) | Submitted on 7/24/79. See 40 CFR 52.1490(c)(16)(iii).
030.015 | [Public notice requirement for major sources] | 5/23/79 (adopted) | 46 FR 21758 (4/14/81) | Submitted on 7/24/79. See 40 CFR 52.1490(c)(16)(iii).
030.025 | Registration Application | 5/23/79 (adopted) | 46 FR 21758 (4/14/81) | Submitted on 7/24/79. See 40 CFR 52.1490(c)(16)(iii).
030.030 | [Limits on effect of acceptance of permit application or issuance of Authority to Construct] | 5/23/79 (adopted) | 46 FR 21758 (4/14/81) | Submitted on 7/24/79. See 40 CFR 52.1490(c)(16)(iii).
030.110 | [modifications] | 5/23/79 (adopted) | 46 FR 21758 (4/14/81) | Submitted on 7/24/79. See 40 CFR 52.1490(c)(16)(iii).
030.115(1), (5), and subsection (B) | [Additional requirements for major sources in general and specific additional requirements for major sources of nonattainment pollutants] | 5/23/79 (adopted) | 46 FR 21758 (4/14/81) | Submitted on 7/24/79. See 40 CFR 52.1490(c)(16)(iii).
030.120 | [Violations and Stop Work Orders] | 5/23/79 (adopted) | 46 FR 21758 (4/14/81) | Submitted on 7/24/79. See 40 CFR 52.1490(c)(16)(iii).
030.1201 | [Person served with Stop Work Order] | 5/23/79 (adopted) | 46 FR 21758 (4/14/81) | Submitted on 7/24/79. See 40 CFR 52.1490(c)(16)(iii).
030.205 | [Registration Requirement] | 5/23/79 (adopted) | 46 FR 21758 (4/14/81) | Submitted on 7/24/79. See 40 CFR 52.1490(c)(16)(iii).
030.210 | [Issuance of Permits to Operate] | 5/23/79 (adopted) | 46 FR 21758 (4/14/81) | Submitted on 7/24/79. See 40 CFR 52.1490(c)(16)(iii).
030.215 | [Limits on Meaning of Issuance of Permit to Operate] | 5/23/79 (adopted) | 46 FR 21758 (4/14/81) | Submitted on 7/24/79. See 40 CFR 52.1490(c)(16)(iii).
030.218 | Demonstration of Compliance | 6/28/12 | 77 FR 60915 (10/5/12) | Submitted on 8/30/12.
030.230 | Record Keeping | 6/28/12 | 77 FR 60915 (10/5/12) | Submitted on 8/30/12.
030.235 | Requirements for Source Sampling and Testing | 6/28/12 | 77 FR 60915 (10/5/12) | Submitted on 8/30/12.
030.245 | [Permit to Operate is not transferable] | 5/23/79 (adopted) | 46 FR 21758 (4/14/81) | Submitted on 7/24/79. See 40 CFR 52.1490(c)(16)(iii).
030.250 | [Permit to Operate is subject to suspension or revocation for violation] | 5/23/79 (adopted) | 46 FR 21758 (4/14/81) | Submitted on 7/24/79. See 40 CFR 52.1490(c)(16)(iii).
030.300 | Fee and Fee Schedule | 5/23/79 (adopted) | 46 FR 43141 (8/27/81) | Submitted on 7/24/79. See 40 CFR 52.1490(c)(16)(ix).
030.305 | Plan Review Fees | 5/23/79 (adopted) | 46 FR 43141 (8/27/81) | Submitted on 7/24/79. See 40 CFR 52.1490(c)(16)(ix).
030.310 | [Permit to Operate—Schedule of Fees] | 5/23/79 (adopted) | 46 FR 43141 (8/27/81) | Submitted on 7/24/79. See 40 CFR 52.1490(c)(16)(ix).
030.970 (subsection A only) | Part 70 Permit Monitoring and Compliance | 6/28/12 | 77 FR 60915 (10/5/12) | Submitted on 8/30/12.
030.3101 | Fuel burning equipment | 5/23/79 (adopted) | 46 FR 43141 (8/27/81) | Submitted on 7/24/79. See 40 CFR 52.1490(c)(16)(ix).
030.3102 | Incinerators | 5/23/79 (adopted) | 46 FR 43141 (8/27/81) | Submitted on 7/24/79. See 40 CFR 52.1490(c)(16)(ix).
030.3103 | Storage tanks | 5/23/79 (adopted) | 46 FR 43141 (8/27/81) | Submitted on 7/24/79. See 40 CFR 52.1490(c)(16)(ix).
030.3104 | Processes | 5/23/79 (adopted) | 46 FR 43141 (8/27/81) | Submitted on 7/24/79. See 40 CFR 52.1490(c)(16)(ix).
PROHIBITED EMISSIONS
040.005 | Visible Air Contaminants | 2/23/06 | 72 FR 33397 (6/18/07) | Submitted on 5/5/06. See 40 CFR 52.1490(c)(63)(i)(A)(1).
040.010 | Particulate Matter | 2/1/72 | 37 FR 15080 (7/27/72) | Submitted on 6/12/72. See 40 CFR 52.1490(c)(2).
040.015 | Specific Contaminants | 2/1/72 | 37 FR 15080 (7/27/72) | Submitted on 6/12/72. See 40 CFR 52.1490(c)(2).
040.020 | Dust and Fumes | 2/1/72 | 37 FR 15080 (7/27/72) | Submitted on 6/12/72. See 40 CFR 52.1490(c)(2).
040.025 | Exceptions | 2/1/72 | 37 FR 15080 (7/27/72) | Submitted on 6/12/72. See 40 CFR 52.1490(c)(2).
040.030 | Dust Control | 11/1/02 | 72 FR 25969 (5/8/07) | Adopted on 7/26/02. Submitted on 8/5/02. See 40 CFR 52.1490(c)(55)(i)(A)(2).
040.031 | Street Sanding Operations | 2/27/02 | 71 FR 14386 (3/22/06) | Adopted on 2/27/02. Submitted on 8/5/02. See 40 CFR 52.1490(c)(55)(i)(A)(1).
040.032 | Street Sweeping Operations | 2/27/02 | 71 FR 14386 (3/22/06) | Adopted on 2/27/02. Submitted on 8/5/02. See 40 CFR 52.1490(c)(55)(i)(A)(1).
040.035 | Open Fires | 2/1/72 | 37 FR 15080 (7/27/72) | Submitted on 6/12/72. See 40 CFR 52.1490(c)(2).
040.040 | Burning Permit Conditions | 2/1/72 | 37 FR 15080 (7/27/72) | Submitted on 6/12/72. See 40 CFR 52.1490(c)(2).
040.045 | Refuse Disposal | 2/1/72 | 37 FR 15080 (7/27/72) | Submitted on 6/12/72. See 40 CFR 52.1490(c)(2).
040.050 | Incinerator Emissions | 2/1/72 | 37 FR 15080 (7/27/72) | Submitted on 6/12/72. See 40 CFR 52.1490(c)(2).
040.051 | Wood Stove/Fireplace Insert Emissions | 2/23/06 | 72 FR 33397 (6/18/07) | Submitted on 5/5/06. See 40 CFR 52.1490(c)(63)(i)(A)(1).
040.060 | Sulfur Content of Fuel | 2/1/72 | 37 FR 15080 (7/27/72) | Submitted on 6/12/72. See 40 CFR 52.1490(c)(2).
040.065 | Reduction of Animal Matter | 2/1/72 | 37 FR 15080 (7/27/72) | Submitted on 6/12/72. See 40 CFR 52.1490(c)(2).
040.070 | Storage of Petroleum Products | 1/24/79 (adopted) | 46 FR 21758 (4/14/81) | Submitted on 7/24/79. See 40 CFR 52.1490(c)(16)(iii).
040.075 | Gasoline Loading into Tank Trucks and Trailers | 1/24/79 (adopted) | 46 FR 21758 (4/14/81) | Submitted on 7/24/79. See 40 CFR 52.1490(c)(16)(iii).
040.080 | Gasoline Unloading from Tank Trucks and Trailers into Storage Tanks | 1/24/79 (adopted) | 46 FR 21758 (4/14/81) | Submitted on 7/24/79. See 40 CFR 52.1490(c)(16)(iii).
040.085 | Organic Solvents | 1/24/79 (adopted) | 46 FR 21758 (4/14/81) | Submitted on 7/24/79. See 40 CFR 52.1490(c)(16)(iii).
040.090 | Cut-Back Asphalts | 5/23/79 (adopted) | 46 FR 21758 (4/14/81) | Submitted on 7/24/79. See 40 CFR 52.1490(c)(16)(iii).
040.095 | Oxygen content of motor vehicle fuel | 9/22/05 | 73 FR 38124 (7/3/08) | See 40 CFR 52.1490(c)(69)(i)(A)(1).
[Related to 040.095] | Washoe County District Board of Health Meeting, September 22, 2005, Public Hearing-Amendments—Washoe County District Board of Health Regulations Governing Air Quality Management; to Wit: Rule 040.095 (Oxygen Content of Motor Vehicle Fuel) | 9/22/05 | 73 FR 38124 (7/3/08) | See 52.1490(c)(69)(i)(A)(1)(i).
EMERGENCY EPISODE PLAN
050.001 | Emergency Episode Plan | 3/23/06 | 72 FR 33397 (6/18/07) | Submitted on 5/5/06. See 40 CFR 52.1490(c)(63)(i)(A)(1).
060.010 | Emergency Authority to Act | 2/1/72 | 37 FR 15080 (7/27/72) | Submitted on June 12, 1972. See 40 CFR 52.1490(c)(2).
060.015 | Sampling Stations and Air Sampling | 2/1/72 | 37 FR 15080 (7/27/72) | Submitted on June 12, 1972. See 40 CFR 52.1490(c)(2).
060.020 | Reports | 2/1/72 | 37 FR 15080 (7/27/72) | Submitted on June 12, 1972. See 40 CFR 52.1490(c)(2).
060.025 | Continuing Program of Voluntary Cooperation | 2/1/72 | 37 FR 15080 (7/27/72) | Submitted on June 12, 1972. See 40 CFR 52.1490(c)(2).

* * * * *

[FR Doc. 2014-14278 Filed 6-18-14; 8:45 am]

BILLING CODE 6560-50-P